DEPARTMENT OF HOUSING AND URBAN DEVELOPMENT

[Docket No. FR-4936-N-04]

Notice of Regulatory Waiver Requests Granted for the Fourth Quarter of Calendar Year 2004

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2004, and ending on December 31, 2004.

FOR FURTHER INFORMATION CONTACT: For general information about this notice, contact Aaron Santa Anna, Assistant General Counsel for Regulations, Room 10276, Department of Housing and Urban Development, 451 Seventh Street, SW., Washington, DC 20410-0500, telephone 202-708-3055 (this is not a toll-free number). Persons with hearing-or speech-impairments may access this number through TTY by calling the toll-free Federal Information Relay Service at 800-877-8339.

For information concerning a particular waiver that was granted and for which public notice is provided in this document, contact the person whose name and address follow the description of the waiver granted in the accompanying list of waivers that have been granted in the fourth quarter of calendar year 2004.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers waivers of regulations granted by HUD from October 1, 2004, through December 31, 2004. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2004) before the next report is published (the first quarter of calendar year 2005), HUD will include any additional waivers granted for the fourth quarter in the next report.

Accordingly, information about approved waiver requests pertaining to HUD regulations is provided in the Appendix that follows this notice.

Dated: April 1, 2005.
Kathleen D. Koch,
Deputy General Counsel.

Appendix

Listing of Waivers of Regulatory Requirements Granted by Offices of the Department of Housing and Urban Development October 1, 2004, Through December 31, 2004

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulations: 24 CFR 92.214(a)(6).

Project/Activity: The State of Oregon requested a waiver of the § 92.214(a)(6) of the HOME Program regulations (24 CFR part 92).

Nature of Requirement: Section 92.214(a)(6) of the HOME Program regulations states that, except up to one year after project completion, HOME assistance may not be provided to a project previously assisted with HOME funds during the period of affordability.

Granted By: Roy A. Bernardi.

Date Granted: October 26, 2004.

Reasons Waived: The Community Partners for Affordable Housing (CPAH), and its partners worked to correct physical, management and financial problems, they explored whether the project would be viable with improvements through a market study, determined what repairs and improvements were needed through thorough inspections, and secured funds for emergency repairs.

Contact: Shawna Burrell, Office of Community Planning and Development, Department of Housing and Urban Development, 451 Seventh Street, SW., Washington, DC 20410-7000, telephone (202) 708-2684.

• Regulations: 24 CFR 92.251(a) and 24 CFR 92.254(b)(4).

Project/Activity: The State of West Virginia requested a waiver at 24 CFR 92.251(a) and 254(b)(4) to facilitate an emergency home repair program serving the victims of flooding in presidentially-declared disaster areas.

Nature of Requirement: The HOME program regulations at 24 CFR 92.251(a) require all units rehabilitated with HOME funds to meet specific property standards. The HOME program regulations at 24 CFR 254(b)(4) requires homeownership units assisted with HOME funds to have after rehabilitation values that do not exceed 95 percent of area median purchase price.

Granted By: Roy A. Bernardi, Deputy Secretary.

Date Granted: December 28, 2004.

Reasons Waived: The waiver was granted to permit the state to respond expeditiously to the needs of affected low-income homeowners in the presidentially-declared disaster areas irrespective of the value of their homes. The waiver will also permit the state to more efficiently use its limited HOME funding to address only disaster-related damage to the homes, without being required to address all other deficiencies in the homes.

Contact: Shawna Burrell, Office of Community Planning and Development, Department of Housing and Urban Development, 451 Seventh Street, SW., Washington, DC 20410-7000, telephone (202) 708-2684.

• Regulations: 24 CFR 92.252 and 254(a)(3).

Project/Activity: The Tennessee Housing Development Agency (THDA) requested a waiver on behalf of the Housing Development Corporation Clinch Valley (HDC).

Nature of Requirement: THDA requested that a HOME-assisted homebuyer unit that was subsequently sold and operated as rental unit be permitted to qualify as affordable housing under § 92.252. Section 92.254(a)(3) of the HOME Program regulations states that the homebuyer must be low-income and the housing must be the family's primary residence for the period of affordability.

Granted By: Roy A. Bernardi, Deputy Secretary.

Date Granted: November 12, 2004.

Reasons Waived: The purpose of conversion of the unit to rental housing was to preserve an affordable housing resource and meet a need in the community, to benefit the disabled.

Contact: Shawna Burrell, Office of Community Planning and Development, Department of Housing and Urban Development, 451 Seventh Street, SW., Washington, DC 20410-7000, telephone (202) 708-2684.

• Regulations: 24 CFR 570.208(a)(3), 24 CFR 570.208(a)(1), 24 CFR 570.5, and 24 CFR 570.201(n).

Project/Activity: Dane County of Wisconsin has requested a waiver under 24 CFR 570.208(a)(3) of the CDBG program regulations.

Nature of Requirements: HUD's regulations in 24 CFR 570.208 require that at least 51 percent of the units in a multi-unit residential structure and 100 percent of single unit residential structures be occupied by low- and moderate-income households.

Granted By: Roy A. Bernardi, Deputy Secretary.

Date Granted: December 14, 2004.

Reasons Waived: The waiver will allow less than 100 percent of the single unit structures to be sold to low- and moderate-income households, which will increase the supply of affordable housing available to such households while using a relatively modest investment of CDBG funds, as a proportion of the total cost. The granting of this waiver is consistent with the Housing and Community Development Act of 1974.

Contact: Gloria Coates, Office of Community Planning and Development, Department of Housing and Urban Development, 451 Seventh Street, SW., Washington, DC 20410-7000, telephone (202) 708-1577.

II. Regulatory Waivers Granted by the Office of Housing—Federal Housing Administration (FHA)

For further information about the following regulatory waivers, please see the name of the contact person that immediately follows the description of the waiver granted.

• Regulation: 24 CFR 219.220(b).

Project/Activity: High Park Terrace Cooperative, Newark, New Jersey, FHA Project Number: 031-55032.

Nature of Requirement: Section 219.220(b) governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project. * * *” Either of these actions would typically terminate FHA involvement with the property, and the Flexible Subsidy loan would be repaid, in whole, at that time.

Granted by: John C. Weicher, Assistant Secretary for Housing—Federal Housing Commissioner.

Date Granted: October 28, 2004.

Reason Waived: The waiver was granted in order to allow the owner of High Park Terrace Cooperative to prepay the mortgage and forbear repayment of the outstanding Flexible Subsidy loan upon prepayment of the insured mortgage until January 1, 2012, the original insured mortgage maturity date. The cooperative has maintained affordability under the section 221(d)(3) Below Market Interest Rate (BMIR) program but has in recent years experienced difficulty in maintaining and improving the property due to budgetary constraints. The waiver allows the cooperative to prepay the existing mortgage and refinance to perform substantial rehabilitation of the property and allow the repayment of the Flexible Subsidy loan.

Contact: Beverly J. Miller, Director, Office of Asset Management, Office of Housing, Department of Housing and Urban Development, 451 Seventh Street, SW., Washington, DC 20410-8000, telephone 202-708-3730.

• Regulation: 24 CFR 219.220(b).

Project/Activity: Lakeview Towers, FHA Project No: 071-55109, Chicago, Illinois.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project. * * *” Either of these actions would typically terminate FHA involvement with the property, and the Flexible Subsidy loan would be repaid, in whole, at that time.

Granted by: John C. Weicher, Assistant Secretary for Housing—Federal Housing Commissioner.

Date Granted: October 28, 2004.

Reason Waived: The waiver was granted to allow the owners to repay a Flexible Subsidy loan and refinance a section 221(d)(3) BMIR mortgage with a section 221(d)(4) mortgage. There is also a note from the Illinois Housing Development Authority in third position. The Flexible Subsidy note is in fourth position. Waiver of this regulation will allow the owner to defer payment of the Flexible Subsidy loan, which will then be placed in third position. The owner is proposing to pay off the first and second mortgages. Funds in the amount of $10.7 million will be made available to complete needed repairs and rehabilitation and allow the project to maintain rents at an affordable level.

Contact: Beverly J. Miller, Director, Office of Asset Management, Office of Housing, Department of Housing and Urban Development, 451 Seventh Street, SW., Washington, DC 20410-8000, telephone 202-708-3730.

• Regulation: 24 CFR 219.220(b).

Project/Activity: Community Homes Project, Baltimore, Maryland.

Nature of Requirement: Section 219.220(b) of HUD's regulations governs the prepayment of operating assistance provided under the Flexible Subsidy Program for Troubled Projects prior to May 1, 1996 and states: “Assistance that has been paid to a project owner under this subpart must be repaid at the earlier of the expiration of the term of the mortgage, termination of mortgage insurance, prepayment of the mortgage, or a sale of the project. * * *” Either of these actions would typically terminate FHA involvement with the property, and the Flexible Subsidy loan would be repaid, in whole, at that time.

Granted by: John C. Weicher, Assistant Secretary for Housing—Federal Housing Commissioner.

Date Granted: December 23, 2004.

Reason Waived: The waiver was granted for the required repayment of the existing Flexible Subsidy note of $853,130. Flexible Subsidy was provided to assist the owner with repairs and upgrades in return for maintaining the low-income character and use of this property. The Flexible Subsidy note as originally written is due on sale of the property, refinance or prepayment of the first mortgage. The waiver allows transfer of the assumption of the Flexible Subsidy note to the new purchaser. This action is necessary to ensure the long-term viability of the property as a low-income housing resource.

Contact: Beverly J. Miller, Director, Office of Asset Management, Office of Housing, Department of Housing and Urban Development, 451 Seventh Street, SW., Washington, DC 20410-8000, telephone 202-708-3730.

• Regulation: 24 CFR 291.100(a)(ii).

Project/Activity: Competitive bidding on property located at 920 Page Street, Kewanee, IL.

Nature of Requirement: Section 291.100(a)(ii) of HUD's regulations does not permit a non-occupant mortgagor (whether an original mortgagor, assumption, or a person who purchased “subject to”) of an insured mortgage who has defaulted, thereby causing HUD to pay an insurance claim on the mortgage to repurchase the same property.

Granted By: John C. Weicher, Assistant Secretary for Housing—Federal Housing Commissioner.

Date Granted: December 20, 2004.

Reason Waived: Granting of the waiver advances HUD's goal of expanding homeownership opportunities and increase access to affordable housing. In addition, the sale of the property provides the maximum return to the mortgage insurance fund.

Contact: Wanda Sampedro, Director of Asset Management Division, Department of Housing and Urban Development, 451 Seventh Street, SW., Washington, DC 20410-8000, telephone 202-708-1672.

• Regulation: 24 CFR 291.570.

Project/Activity: The waiver is applicable to the Officer Next Door/Teacher Next Door Sales program. The waiver was requested for certain owners called for active military duty during the owner-occupancy requirement period required by the program.

Nature of Requirement: Section 291.570 of HUD's regulations provides that to remain a participant in the Officer Next Door Sales program, the owner must, for the entire duration of the owner-occupancy term.

Granted By: John C. Weicher, Assistant Secretary for Housing-Federal Housing Commissioner.

Date Granted: December 29, 2004.

Reason Waived: The waiver request was to allow a purchaser of a program home called to active military service during the first three years of ownership (e.g., required owner-occupant period) to count the service on active duty towards satisfaction of the three-year requirement. The Department recognizes the impossibility of performance of the occupancy requirement by OND/TND borrowers who are currently fulfilling the requirements of their occupancy period, and are called to active military duty at posts outside the commuting area of their hometowns. Permitting OND/TND borrowers to receive credit for time served on active military duty as a credit against the OND/TND program occupancy requirement will not be detrimental to the insurance fund.

Contact: Wanda Sampedro, Director of Asset Management Division, Department of Housing and Urban Development, 451 Seventh Street, SW., Washington, DC 20410-8000, telephone 202-708-1672.

• Regulation: 24 CFR 401.600.

Project/Activity: The following projects requested waivers to the 12-month limit at above-market rents (24 CFR 401.600):

FHA No. | Project | State
12135678 | Mercy Terrace | CA
10135304 | La Alma Housing | CO
01735218 | Country Village Apartments | CT
07235085 | Dawson Manor | IL
07135436 | Roosevelt Independence | IL
07135468 | Universal City Apartments | IL
05935181 | Bond House | LA
05938005 | Wellington Square | LA
04735183 | Weston Apartments | MI
05335426 | California Arms Apartments | NC
04235395 | Lawrence Saltis Plaza | OH
04635448 | Manorview Apartments | OH
04235383 | Northgate Apartments | OH
03335119 | Grayson Court | PA
10510501 | Lorna Doone Apartments | UT
08411044 | John B Hughes I & II | MO

Nature of Requirement: Section 401.600 requires that projects be marked down to market rents within 12 months of their first expiration date after January 1, 1998. The intent of this provision is to ensure timely processing of requests for restructuring and that the properties will not default on their FHA insured mortgages during the restructuring process.

Granted By: John C. Weicher, Assistant Secretary for Housing—Federal Housing Commissioner.

Date Granted: October 19, 2004.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000, telephone 202-708-0001.

• Regulation: 24 CFR 401.600.

Project/Activity: The following projects requested waivers to the 12-month limit at above-market rents (24 CFR 401.600):

FHA No. | Project | State
06235383 | Jefferson Davis Apartments | AL
06135382 | Capitol Towers | GA
08335352 | Grand Central Apartments | KY
05235400 | Franklin Square School Apartments | MD
01435059 | Roosevelt Apartments | NY
03435213 | Breslyn Apartments | PA

Nature of Requirement: Section 401.600 requires that projects be marked down to market rents within 12 months of their first expiration date after January 1, 1998. The intent of this provision is to ensure timely processing of requests for restructuring and that the properties will not default on their FHA insured mortgages during the restructuring process.

Granted By: John C. Weicher, Assistant Secretary for Housing—Federal Housing Commissioner.

Date Granted: November 23, 2004.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000, telephone 202-708-0001.

• Regulation: 24 CFR 401.600.

Project/Activity: The following projects requested waivers to the 12-month limit at above-market rents (24 CFR 401.600):

FHA No. | Project | State
00035320 | Southview II Apartments | DC
07392501 | Andrews Gardens Apartments | IN
07335416 | Gary NSA III Apartments | IN
02335287 | Centennial Island Apartments | MA
02335268 | Piedmont Brightside Apartments | MA
01332005 | Amsterdam Sr. Citizen Housing | NY
05435476 | Woods Edge Apartments | SC
05435494 | Standpoint Vista Apartments | SC
11335067 | Gholson Hotel | TX
10535074 | Massey Plaza | UT
10535071 | Milford Haven Apartments | UT
12735346 | Jackson Apartments | WA
06694016 | Federal Apartments | FL

Nature of Requirement: Section 401.600 requires that projects be marked down to market rents within 12 months of their first expiration date after January 1, 1998. The intent of this provision is to ensure timely processing of requests for restructuring and that the properties will not default on their FHA insured mortgages during the restructuring process.

Granted By: John C. Weicher, Assistant Secretary for Housing—Federal Housing Commissioner.

Date Granted: December 23, 2004.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000, telephone 202-708-0001.

• Regulation: 24 CFR 883.606(b).

Project/Activity: Florida Housing Finance Corporation, Tallahassee, Florida.

Nature of Requirement: Section 883.606(b) entitles the state agency to a reasonable fee, determined by HUD, for constructed or substantially rehabilitated units provided there is no override on the permanent loan granted by the state agency to the owner for a project containing assisted units.

Granted by: John C. Weicher, Assistant Secretary for Housing—Federal Housing Commissioner.

Date Granted: November 1, 2004.

Reason Waived: The regulation was waived in order to rectify the omission to earlier enforce a regulatory prohibition of both contract administration fees and bond yield override in connection with the same project and neglected to issue formal waivers at the time of approval. HUD proposed to correct this oversight by providing agencies in violation of this rule an opportunity to request and justify formal waivers. Since the Florida Housing Finance Corporation has only used override revenues for projects which comply with the requirements of section 1012 of the McKinney Act and are allocated to the state agency's very-low income housing programs which conforms and supports the affordable housing objectives of the McKinney Act and HUD's bond refunding program, the waiver is granted to the 1992 Series A General Mortgage Revenue Refunding Bonds of the Florida Housing Finance Corporation.

Contact: Beverly J. Miller, Director, Office of Asset Management, Office of Housing, Department of Housing and Urban Development, 451 Seventh Street, SW., Washington, DC 20410-8000, telephone 202-708-3730.

• Regulation: 24 CFR 883.606(b).

Project/Activity: Oregon Department of Housing and Community Services, Salem, Oregon.

Nature of Requirement: Section 883.606(b) entitles the state agency to a reasonable fee, determined by HUD, for constructed or substantially rehabilitated units provided there is no override on the permanent loan granted by the state agency to the owner for a project containing assisted units.

Granted by: John C. Weicher, Assistant Secretary for Housing—Federal Housing Commissioner.

Date Granted: November 5, 2004.

Reason Waived: The waiver of the regulation permits the collection of both contract administration fees and bond yield override in connection with the same projects. Since the Oregon Housing and Community Services Department uses override revenues for projects which comply with the requirements of section 1012 of the McKinney Act and are allocated to the state agency's very-low income housing programs which conforms and supports the affordable housing objectives of the McKinney Act and HUD's bond refunding program, the waiver is granted to the Series A 2004 Mortgage Revenue Refunding Bonds of the Oregon Housing and Community Services Department.

Contact: Beverly J. Miller, Director, Office of Asset Management, Office of Housing, Department of Housing and Urban Development, 451 Seventh Street, SW., Washington, DC 20410-8000, telephone 202-708-3730.

• Regulation: 24 CFR 891.100(d).

Project/Activity: Cedar Oaks Place, Kerrville, TX, Project Number: 115-HD039/TX59-Q021-002.

Nature of Requirement: Section 891.100(d) prohibits amendment of the amount of the approved capital advance funds prior to initial closing.

Granted by: John C. Weicher, Assistant Secretary for Housing—Federal Housing Commissioner.

Date Granted: October 5, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Cornhill Apartments, Rochester, NY, Project Number: 014-HD099/NY06-Q001-009.

Nature of Requirement: Section 891.100(d) prohibits amendment of the amount of the approved capital advance funds prior to initial closing.

Granted by: John C. Weicher, Assistant Secretary for Housing—Federal Housing Commissioner.

Date Granted: October 6, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Bishop Goedert Residences, Hines, IL, Project Number: 071-EE178/IL06-S021-006.

Nature of Requirement: Section 891.100(d) prohibits amendment of the amount of the approved capital advance funds prior to initial closing.

Granted by: John C. Weicher, Assistant Secretary for Housing—Federal Housing Commissioner.

Date Granted: October 8, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Fair Haven West, Pella, IA, Project Number: 074-EE044/IA05-S031-003.

Nature of Requirement: Section 891.100(d) prohibits amendment of the amount of the approved capital advance funds prior to initial closing.

Granted by: John C. Weicher, Assistant Secretary for Housing—Federal Housing Commissioner.

Date Granted: October 8, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Robert H. Moore Senior Housing, Brooklyn, NY, Project Number: 012-EE324/NY36-S021-005.

Nature of Requirement: Section 891.100(d) prohibits amendment of the amount of the approved capital advance funds prior to initial closing.

Granted by: John C. Weicher, Assistant Secretary for Housing—Federal Housing Commissioner.

Date Granted: October 13, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: VOA Sandusky, Sandusky, OH, Project Number: 042-HD110/OH12-Q021-008.

Nature of Requirement: Section 891.100(d) prohibits amendment of the amount of the approved capital advance funds prior to initial closing.

Granted by: John C. Weicher, Assistant Secretary for Housing—Federal Housing Commissioner.

Date Granted: October 15, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: St. George Housing, Superior, WI, Project Number: 075-HD074/WI39-Q021-005.

Nature of Requirement: Section 891.100(d) prohibits amendment of the amount of the approved capital advance funds prior to initial closing.

Granted by: John C. Weicher, Assistant Secretary for Housing—Federal Housing Commissioner.

Date Granted: October 15, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Windham Willows, Windham, NY, Project Number: 014-EE210/NY06-S011-009.

Nature of Requirement: Section 891.100(d) prohibits amendment of the amount of the approved capital advance funds prior to initial closing.

Granted by: John C. Weicher, Assistant Secretary for Housing—Federal Housing Commissioner.

Date Granted: October 15, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: TBD, Niskayuna, NY, Project Number: 014-HD120/NY06-Q031-010.

Nature of Requirement: Section 891.100(d) prohibits amendment of the amount of the approved capital advance funds prior to initial closing.

Granted by: John C. Weicher, Assistant Secretary for Housing—Federal Housing Commissioner.

Date Granted: October 18, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: William W. Winpisinger, Cleveland, OH, Project Number: 042-EE145/OH12-S021-008.

Nature of Requirement: Section 891.100(d) prohibits amendment of the amount of the approved capital advance funds prior to initial closing.

Granted by: John C. Weicher, Assistant Secretary for Housing—Federal Housing Commissioner.

Date Granted: October 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: New Courtland 202, Philadelphia, PA, Project Number: 034-EE119/PA26-S011-009.

Nature of Requirement: Section 891.100(d) prohibits amendment of the amount of the approved capital advance funds prior to initial closing.

Granted by: John C. Weicher, Assistant Secretary for Housing—Federal Housing Commissioner.

Date Granted: October 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Natural Bridge Group Home, Natural Bridge, VA, Project Number: 051-HD122/VA36-Q031-004.

Nature of Requirement: Section 891.100(d) prohibits amendment of the amount of the approved capital advance funds prior to initial closing.

Granted by: John C. Weicher, Assistant Secretary for Housing—Federal Housing Commissioner.

Date Granted: October 27, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: NCR of Holy Trinity, Bedford Heights, OH, Project Number: 042-EE142/OH12-S021-005.

Nature of Requirement: Section 891.100(d) prohibits amendment of the amount of the approved capital advance funds prior to initial closing.

Granted by: John C. Weicher, Assistant Secretary for Housing—Federal Housing Commissioner.

Date Granted: October 28, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Philip Murray House II, Philadelphia, PA, Project Number: 034-EE102/PA26-S001-002.

Nature of Requirement: Section 891.100(d) prohibits amendment of the amount of the approved capital advance funds prior to initial closing.

Granted by: John C. Weicher, Assistant Secretary for Housing—Federal Housing Commissioner.

Date Granted: October 29, 2004.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Deltona Gardens, Deltona, FL, Project Number: 067-HD087/FL29-Q021-001.

Nature of Requirement: Section 891.100(d) prohibits amendment of the amount of the approved capital advance funds prior to initial closing.

Granted by: John C. Weicher, Assistant Secretary for Housing—Federal Housing Commissioner.

Date Granted: November 2, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Owatonna Senior Housing, Owatonna, Minnesota, Project Number: 092-EE094/MN46-S031-006.

Nature of Requirement: Section 891.100(d) prohibits amendment of the amount of the approved capital advance funds prior to initial closing.

Granted by: John C. Weicher, Assistant Secretary for Housing—Federal Housing Commissioner.

Date Granted: November 3, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Jubilee Senior Homes, Berkeley, CA, Project Number: 121-EE156/CA39-S021-001.

Nature of Requirement: Section 891.100(d) prohibits amendment of the amount of the approved capital advance funds prior to initial closing.

Granted by: John C. Weicher, Assistant Secretary for Housing—Federal Housing Commissioner.

Date Granted: November 4, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: VOA Sandusky, Sandusky, OH, Project Number: 042-HD110/OH12-Q021-008.

Nature of Requirement: Section 891.100(d) prohibits amendment of the amount of the approved capital advance funds prior to initial closing.

Granted by: John C. Weicher, Assistant Secretary for Housing—Federal Housing Commissioner.

Date Granted: November 8, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Homestreet II, Hillsboro, OR, Project Number: 126-HD034/OR16-Q021-002.

Nature of Requirement: Section 891.100(d) prohibits amendment of the amount of the approved capital advance funds prior to initial closing.

Granted by: John C. Weicher, Assistant Secretary for Housing—Federal Housing Commissioner.

Date Granted: November 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Cedar Hill Apartments, Joplin, MO, Project Number: 084-HD046/MO16-Q031-004.

Nature of Requirement: Section 891.100(d) prohibits amendment of the amount of the approved capital advance funds prior to initial closing.

Granted by: John C. Weicher, Assistant Secretary for Housing—Federal Housing Commissioner.

Date Granted: November 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Holy Cross Manor, Palmetto, FL, Project Number: 067-EE126/FL29-S031-002.

Nature of Requirement: Section 891.100(d) prohibits amendment of the amount of the approved capital advance funds prior to initial closing.

Granted by: John C. Weicher, Assistant Secretary for Housing—Federal Housing Commissioner.

Date Granted: November 23, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Friendship House, Gretna, LA, Project Number: 064-HD074/LA48-Q021-007.

Nature of Requirement: Section 891.100(d) prohibits amendment of the amount of the approved capital advance funds prior to initial closing.

Granted by: John C. Weicher, Assistant Secretary for Housing—Federal Housing Commissioner.

Date Granted: November 23, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Daisy House, Rochester, NY, Project Number: 014-EE208/NY06-S011-007.

Nature of Requirement: Section 891.100(d) prohibits amendment of the amount of the approved capital advance funds prior to initial closing.

Granted by: John C. Weicher, Assistant Secretary for Housing—Federal Housing Commissioner.

Date Granted: November 29, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Abilities at San Juan II, Melbourne, FL, Project Number: 067-HD093/FL29-Q031-001.

Nature of Requirement: Section 891.100(d) prohibits amendment of the amount of the approved capital advance funds prior to initial closing.

Granted by: John C. Weicher, Assistant Secretary for Housing—Federal Housing Commissioner.

Date Granted: December 6, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: ASI Grand Forks, Grand Forks, ND, Project Number: 094-HD011/ND99-Q021-002.

Nature of Requirement: Section 891.100(d) prohibits amendment of the amount of the approved capital advance funds prior to initial closing.

Granted by: John C. Weicher, Assistant Secretary for Housing—Federal Housing Commissioner.

Date Granted: December 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Ross Court Group Home, Portsmouth, VA, Project Number: 051-HD110/VA36-Q021-001.

Nature of Requirement: Section 891.100(d) prohibits amendment of the amount of the approved capital advance funds prior to initial closing.

Granted by: John C. Weicher, Assistant Secretary for Housing—Federal Housing Commissioner.

Date Granted: December 15, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Trinity Apartments of Lakeland, Lakeland, FL, Project Number: 067-EE127/FL29-S031-003.

Nature of Requirement: Section 891.100(d) prohibits amendment of the amount of the approved capital advance funds prior to initial closing.

Granted by: John C. Weicher, Assistant Secretary for Housing—Federal Housing Commissioner.

Date Granted: December 17, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Options Supported Housing Project IX, New York, NY, Project Number: 012-HD117/NY36-Q031-002.

Nature of Requirement: Section 891.100(d) prohibits amendment of the amount of the approved capital advance funds prior to initial closing.

Granted by: John C. Weicher, Assistant Secretary for Housing—Federal Housing Commissioner.

Date Granted: December 17, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Hemlock Nob Apartments, Tannersville, NY, Project Number: 014-EE209/NY06-S011-008.

Nature of Requirement: Section 891.100(d) prohibits amendment of the amount of the approved capital advance funds prior to initial closing.

Granted by: John C. Weicher, Assistant Secretary for Housing—Federal Housing Commissioner.

Date Granted: December 17, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.100(d).

Project/Activity: Gruber Mills at Spring City, Spring City, PA, Project Number: 034-EE123/PA26-S021-004.

Nature of Requirement: Section 891.100(d) prohibits amendment of the amount of the approved capital advance funds prior to initial closing.

Granted by: John C. Weicher, Assistant Secretary for Housing—Federal Housing Commissioner.

Date Granted: December 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone 202-708-3000.

• Regulation: 24 CFR 891.165.

Project/Activity: Woodside Village IV, Oak Bluffs, MA, Project Number: 023-EE119/MA06-S001-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 5, 2004.

Reason Waived: Additional time was needed to secure the title and builder's permit.

Contact: Willie Spearmon, Director, Office of Housing Assistance and Grant Administration, Department of Housing and Urban Development, 451 Seventh Street, SW., Washington, DC 20410-8000, telephone 202-708-3000.

• Regulation: 24 CFR 891.165.

Project/Activity: BCARC Homes, IV, Inc., Palm Bay, FL, Project Number: 067-HD086/FL29-Q011-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 5, 2004.

Reason Waived: Additional time was needed for the owner to correct deficiencies in the firm commitment application and secure another general contractor.

Contact: Willie Spearmon, Director, Office of Housing Assistance and Grant Administration, Department of Housing and Urban Development, 451 Seventh Street, SW., Washington, DC 20410-8000, telephone 202-708-3000.

• Regulation: 24 CFR 891.165.

Project/Activity: McDowell County Housing Action Network, War, WV, Project Number: 045-EE015/WV15-S011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 8, 2004.

Reason Waived: Additional time was needed for the owner to revise the plans and specifications.

Contact: Willie Spearmon, Director, Office of Housing Assistance and Grant Administration, Department of Housing and Urban Development, 451 Seventh Street, SW., Washington, DC 20410-8000, telephone 202-708-3000.

• Regulation: 24 CFR 891.165.

Project/Activity: The Center on Halsted, Chicago, IL, Project Number: 071-HD122/IL06-Q011-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 15, 2004.

Reason Waived: Additional time was needed for the owner to secure the building permit.

Contact: Willie Spearmon, Director, Office of Housing Assistance and Grant Administration, Department of Housing and Urban Development, 451 Seventh Street, SW., Washington, DC 20410-8000, telephone 202-708-3000.

• Regulation: 24 CFR 891.165.

Project/Activity: Cottonwood Manor VIII, Cottonwood, AZ, Project Number: 123-EE081/AZ20-S011-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 15, 2004.

Reason Waived: Additional time was needed for the firm commitment to be issued.

Contact: Willie Spearmon, Director, Office of Housing Assistance and Grant Administration, Department of Housing and Urban Development, 451 Seventh Street, SW., Washington, DC 20410-8000, telephone 202-708-3000.

• Regulation: 24 CFR 891.165.

Project/Activity: Creative Living, Andover, MA, Project Number: 023-HD174/MA06-Q011-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 15, 2004.

Reason Waived: Additional time was needed for the owner to obtain access to adequate sewerage.

Contact: Willie Spearmon, Director, Office of Housing Assistance and Grant Administration, Department of Housing and Urban Development, 451 Seventh Street, SW., Washington, DC 20410-8000, telephone 202-708-3000.

• Regulation: 24 CFR 891.165.

Project/Activity: Alison House, Lansing, MI, Project Number: 047-HD029/MI33-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 15, 2004.

Reason Waived: Additional time was needed for HUD to process the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Adams Bodine Apartments, Louisville, KY, Project Number: 083-HD073/KY36-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 18, 2004.

Reason Waived: Additional time was needed for the owner to modify the plans due to a new zoning ordinance.

Contact: Willie Spearmon, Director, Office of Housing Assistance and Grant Administration, Department of Housing and Urban Development, 451 Seventh Street, SW., Washington, DC 20410-8000, telephone 202-708-3000.

• Regulation: 24 CFR 891.165.

Project/Activity: Gulfport Manor, Gulfport, MS, Project Number: 065-EE031/MS26-S001-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 18, 2004.

Reason Waived: Additional time was needed for HUD to process the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Independence Hill, Moscow, ID, Project Number: 124-HD011/ID16-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 18, 2004.

Reason Waived: Additional time was needed for HUD to process the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Deltona Gardens, Deltona, FL, Project Number: 067-HD087/FL29-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 18, 2004.

Reason Waived: Additional time was needed for the owner to resolve design issues raised by the City of Deltona.

Contact: Willie Spearmon, Director, Office of Housing Assistance and Grant Administration, Department of Housing and Urban Development, 451 Seventh Street, SW., Washington, DC 20410-8000, telephone 202-708-3000.

• Regulation: 24 CFR 891.165.

Project/Activity: Sterling Senior Housing, Bellingham, WA, Project Number: 127-EE038/WA19-S021-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 19, 2004.

Reason Waived: Additional time was needed for the owner to obtain a new contractor due to a conflict of interest.

Contact: Willie Spearmon, Director, Office of Housing Assistance and Grant Administration, Department of Housing and Urban Development, 451 Seventh Street, SW., Washington, DC 20410-8000, telephone 202-708-3000.

• Regulation: 24 CFR 891.165.

Project/Activity: St. Elizabeth House, Seattle, WA, Project Number: 127-EE032/WA19-S011-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 20, 2004.

Reason Waived: Additional time was needed for the owner to obtain endangered species clearance from the U.S. Fish and Wildlife Service.

Contact: Willie Spearmon, Director, Office of Housing Assistance and Grant Administration, Department of Housing and Urban Development, 451 Seventh Street, SW., Washington, DC 20410-8000, telephone 202-708-3000.

• Regulation: 24 CFR 891.165.

Project/Activity: Community Options Middlesex, Inc., Old Bridge, NJ, Project Number: 031-HD111/NJ39-Q001-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 20, 2004.

Reason Waived: Additional time was needed for the project to reach initial closing.

Contact: Willie Spearmon, Director, Office of Housing Assistance and Grant Administration, Department of Housing and Urban Development, 451 Seventh Street, SW., Washington, DC 20410-8000, telephone 202-708-3000.

• Regulation: 24 CFR 891.165.

Project/Activity: Hemet Ability First, Hemet, CA, Project Number: 122-HD130/CA16-Q001-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 20, 2004.

Reason Waived: Additional time was needed for the owner to obtain additional funding.

Contact: Willie Spearmon, Director, Office of Housing Assistance and Grant Administration, Department of Housing and Urban Development, 451 Seventh Street, SW., Washington, DC 20410-8000, telephone 202-708-3000.

• Regulation: 24 CFR 891.165.

Project/Activity: South Seven Senior Housing, Port Hadlock, WA, Project Number: 127-EE036/WA19-S021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 22, 2004.

Reason Waived: Additional time was needed for the owner to obtain the permit and modify the project's design and specifications based on the County's new codes.

Contact: Willie Spearmon, Director, Office of Housing Assistance and Grant Administration, Department of Housing and Urban Development, 451 Seventh Street, SW., Washington, DC 20410-8000, telephone 202-708-3000.

• Regulation: 24 CFR 891.165.

Project/Activity: Philip Murray House II, Philadelphia, PA, Project Number: 034-EE102/PA26-S001-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 22, 2004.

Reason Waived: Owner needed additional time to resolve site issues.

Contact: Willie Spearmon, Director, Office of Housing Assistance and Grant Administration, Department of Housing and Urban Development, 451 Seventh Street, SW., Washington, DC 20410-8000, telephone 202-708-3000.

• Regulation: 24 CFR 891.165.

Project/Activity: Bickford Street, Jamaica Plain, MA, Project Number: 023-EE146/MA06-S011-018.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 22, 2004.

Reason Waived: Additional time was needed for the project to achieve initial closing.

Contact: Willie Spearmon, Director, Office of Housing Assistance and Grant Administration, Department of Housing and Urban Development, 451 Seventh Street, SW., Washington, DC 20410-8000, telephone 202-708-3000.

• Regulation: 24 CFR 891.165.

Project/Activity: Green Garden Apartments, Lockport, IL, Project Number: 071-HD129/IL06-Q021-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 22, 2004.

Reason Waived: Additional time was needed for the owner to resolve wetlands and rezoning issues.

Contact: Willie Spearmon, Director, Office of Housing Assistance and Grant Administration, Department of Housing and Urban Development, 451 Seventh Street, SW., Washington, DC 20410-8000, telephone 202-708-3000.

• Regulation: 24 CFR 891.165.

Project/Activity: Lord Stirling Senior Housing, New Brunswick, NJ, Project Number: 031-EE060/NJ39-S021-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 22, 2004.

Reason Waived: Additional time was needed for the owner to obtain additional funding and submit the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Hunterdone Consumer Home, East Amwell, NJ, Project Number: 031-HD121/NJ39-Q001-012.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 26, 2004.

Reason Waived: Additional time was needed for the township to review and approve the project's septic design.

Contact: Willie Spearmon, Director, Office of Housing Assistance and Grant Administration, Department of Housing and Urban Development, 451 Seventh Street, SW., Washington, DC 20410-8000, telephone 202-708-3000.

• Regulation: 24 CFR 891.165.

Project/Activity: Union County Supportive Living, Roselle Park, NJ, Project Number: 031-HD127/NJ39-Q011-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 26, 2004.

Reason Waived: Additional time was needed for the owner to resolve site issues.

Contact: Willie Spearmon, Director, Office of Housing Assistance and Grant Administration, Department of Housing and Urban Development, 451 Seventh Street, SW., Washington, DC 20410-8000, telephone 202-708-3000.

• Regulation: 24 CFR 891.165.

Project/Activity: Hemlock Nob Estates, Tannersville, NY, Project Number: 014-EE209/NY06-S011-008.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 26, 2004.

Reason Waived: Additional time was needed for HUD to reprocess the firm commitment application due to site change.

Contact: Willie Spearmon, Director, Office of Housing Assistance and Grant Administration, Department of Housing and Urban Development, 451 Seventh Street, SW., Washington, DC 20410-8000, telephone 202-708-3000.

• Regulation: 24 CFR 891.165.

Project/Activity: Snowden House, Dorchester, MA, Project Number: 023-EE115/MA06-S991-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 26, 2004.

Reason Waived: Additional time was needed for HUD to reprocess the firm commitment application due to a change in the general contractor.

Contact: Willie Spearmon, Director, Office of Housing Assistance and Grant Administration, Department of Housing and Urban Development, 451 Seventh Street, SW., Washington, DC 20410-8000, telephone 202-708-3000.

• Regulation: 24 CFR 891.165.

Project/Activity: Walnut Grove, Vancouver, WA, Project Number: 126-EE045/OR16-S021-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 27, 2004.

Reason Waived: Additional time was needed for the owner to redesign the project.

Contact: Willie Spearmon, Director, Office of Housing Assistance and Grant Administration, Department of Housing and Urban Development, 451 Seventh Street, SW., Washington, DC 20410-8000, telephone 202-708-3000.

• Regulation: 24 CFR 891.165.

Project/Activity: Harvard Square, Irvine, CA, Project Number: 143-HD011/CA43-Q001-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 28, 2004.

Reason Waived: Additional time was needed for the owner to obtain a new contractor, prepare offsite utility engineering drawings and secure additional funding.

Contact: Willie Spearmon, Director, Office of Housing Assistance and Grant Administration, Department of Housing and Urban Development, 451 Seventh Street, SW., Washington, DC 20410-8000, telephone 202-708-3000.

• Regulation: 24 CFR 891.165.

Project/Activity: Community Hope VII, Sussex, NJ, Project Number: 031-HD130/NJ39-Q011-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 28, 2004.

Reason Waived: Additional time was needed for the owner to obtain the permit.

Contact: Willie Spearmon, Director, Office of Housing Assistance and Grant Administration, Department of Housing and Urban Development, 451 Seventh Street, SW., Washington, DC 20410-8000, telephone 202-708-3000.

• Regulation: 24 CFR 891.165.

Project/Activity: George Sullivan Manor, Anchorage, AK, Project Number: 176-EE027/AK06-S021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: October 28, 2004.

Reason Waived: Additional time was needed due to a site change.

Contact: Willie Spearmon, Director, Office of Housing Assistance and Grant Administration, Department of Housing and Urban Development, 451 Seventh Street, SW., Washington, DC 20410-8000, telephone 202-708-3000.

• Regulation: 24 CFR 891.165.

Project/Activity: Royal Palm Apartments, Opa Locka, FL, Project Number: 066-EE085/FL29-S011-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 1, 2004.

Reason Waived: Additional time was needed for the owner to resolve site-related and construction cost issues.

Contact: Willie Spearmon, Director, Office of Housing Assistance and Grant Administration, Department of Housing and Urban Development, 451 Seventh Street, SW., Washington, DC 20410-8000, telephone 202-708-3000.

• Regulation: 24 CFR 891.165.

Project/Activity: Villa Regina, West Palm Beach, FL, Project Number: 066-EE086/FL29-S011-010.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 1, 2004.

Reason Waived: Additional time was needed for the owner to finalize the plans, obtain a revised cost analysis and secure additional funding.

Contact: Willie Spearmon, Director, Office of Housing Assistance and Grant Administration, Department of Housing and Urban Development, 451 Seventh Street, SW., Washington, DC 20410-8000, telephone 202-708-3000.

• Regulation: 24 CFR 891.165.

Project/Activity: Faith Residence Apartments, Belle Plaine, MN, Project Number: 092-HD059/MN46-Q021-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 1, 2004.

Reason Waived: Additional time was needed for the owner to secure supplemental funding.

Contact: Willie Spearmon, Director, Office of Housing Assistance and Grant Administration, Department of Housing and Urban Development, 451 Seventh Street, SW., Washington, DC 20410-8000, telephone 202-708-3000.

• Regulation: 24 CFR 891.165.

Project/Activity: Highland County VOA Living Center, Sebring, FL, Project Number: 067-HD091/FL29-Q021-007.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: November 1, 2004.

Reason Waived: Additional time was needed for the owner to prepare and for HUD review of the initial closing documents.

Contact: Willie Spearmon, Director, Office of Housing Assistance and Grant Administration, Department of Housing and Urban Development, 451 Seventh Street, SW., Washington, DC 20410-8000, telephone 202-708-3000.

• Regulation: 24 CFR 891.165.

Project/Activity: Homestreet Inc., Hillsboro, Hillsboro, OR, Project Number: 126-HD034/OR16-Q021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 1, 2004.

Reason Waived: Additional time was needed for the owner to resolve cost issues.

Contact: Willie Spearmon, Director, Office of Housing Assistance and Grant Administration, Department of Housing and Urban Development, 451 Seventh Street, SW., Washington, DC 20410-8000, telephone 202-708-3000.

• Regulation: 24 CFR 891.165.

Project/Activity: Fairbanks Community Mental Health Center, Fairbanks, AK, Project Number: 176-HD021/AK06-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 2, 2004.

Reason Waived: Additional time was needed for HUD to process and issue the firm commitment.

Contact: Willie Spearmon, Director, Office of Housing Assistance and Grant Administration, Department of Housing and Urban Development, 451 Seventh Street, SW., Washington, DC 20410-8000, telephone 202-708-3000.

• Regulation: 24 CFR 891.165.

Project/Activity: Anixter Village, Chicago, IL, Project Number: 071-HD128/IL06-Q021-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 2, 2004.

Reason Waived: Additional time was needed for the owner to secure secondary financing.

Contact: Willie Spearmon, Director, Office of Housing Assistance and Grant Administration, Department of Housing and Urban Development, 451 Seventh Street, SW., Washington, DC 20410-8000, telephone 202-708-3000.

• Regulation: 24 CFR 891.165.

Project/Activity: Whally Avenue Housing II, New Haven, CT, Project Number: 017-HD031/CT26-Q011-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 2, 2004.

Reason Waived: Additional time was needed for the owner to resolve deficiencies in the firm commitment application.

Contact: Willie Spearmon, Director, Office of Housing Assistance and Grant Administration, Department of Housing and Urban Development, 451 Seventh Street, SW., Washington, DC 20410-8000, telephone 202-708-3000.

• Regulation: 24 CFR 891.165.

Project/Activity: River View Gardens, New York, NY, Project Number: 012-EE195/NY36-S961-013.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 3, 2004.

Reason Waived: Additional time was needed for HUD to process the initial closing documents.

Contact: Willie Spearmon, Director, Office of Housing Assistance and Grant Administration, Department of Housing and Urban Development, 451 Seventh Street, SW., Washington, DC 20410-8000, telephone 202-708-3000.

• Regulation: 24 CFR 891.165.

Project/Activity: Gill Terrace Senior Housing II, Ludlow, VT, Project Number: 024-EE066/VT36-S021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 3, 2004.

Reason Waived: Additional time was needed for the owner to select a general contractor and submit the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Windham Willows, Windham, NY, Project Number: 014-EE210/NY06-S011-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 3, 2004.

Reason Waived: Additional time was needed for the owner to secure approval of the storm water drainage plan.

Contact: Willie Spearmon, Director, Office of Housing Assistance and Grant Administration, Department of Housing and Urban Development, 451 Seventh Street, SW., Washington, DC 20410-8000, telephone 202-708-3000.

• Regulation: 24 CFR 891.165.

Project/Activity: New Stuyahok Senior Apartments, New Stuahok, AK, Project Number: 176-EE026/AK06-S021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 5, 2004.

Reason Waived: Additional time was needed for owner to submit the documents.

Contact: Willie Spearmon, Director, Office of Housing Assistance and Grant Administration, Department of Housing and Urban Development, 451 Seventh Street, SW., Washington, DC 20410-8000, telephone 202-708-3000.

• Regulation: 24 CFR 891.165.

Project/Activity: NCR of Holy Trinity, Bedford Heights, OH, Project Number: 042-EE142/OH12-S021-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 9, 2004.

Reason Waived: Additional time was needed for HUD to process and issue the firm commitment

Contact: Willie Spearmon, Director, Office of Housing Assistance and Grant Administration, Department of Housing and Urban Development, 451 Seventh Street, SW., Washington, DC 20410-8000, telephone 202-708-3000.

• Regulation: 24 CFR 891.165.

Project/Activity: Project Live XIII, Newark, NJ, Project Number: 031-HD133/NJ39-Q021-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 10, 2004.

Reason Waived: Additional time was needed for the owner to locate an alternate site and find a contractor.

Contact: Willie Spearmon, Director, Office of Housing Assistance and Grant Administration, Department of Housing and Urban Development, 451 Seventh Street, SW., Washington, DC 20410-8000, telephone 202-708-3000.

• Regulation: 24 CFR 891.165.

Project/Activity: NJCDC Supportive Housing 2002, Hawthorne, NJ, Project Number: 031-HD135/NJ39-Q021-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 10, 2004.

Reason Waived: Additional time was needed for the owner to submit the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Calloway Street One, Salisbury, MD, Project Number: 052-EE042/MD06-S011-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for the project to be initially closed.

Contact: Willie Spearmon, Director, Office of Housing Assistance and Grant Administration, Department of Housing and Urban Development, 451 Seventh Street, SW., Washington, DC 20410-8000, telephone 202-708-3000.

• Regulation: 24 CFR 891.165.

Project/Activity: Villa at Bayou Park, Houston, TX, Project Number: 114-HD019/TX24-Q011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed due to a change of site and for HUD review of the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Preferred Supportive Housing 2, Toms River, NJ, Project Number: 035-HD051/NJ39-Q021-007.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for HUD to issue the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Green Gables, Huntington, WV, Project Number: 045-HD034/WV15-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for HUD to review the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Independence II Consumer Home, Mount Laurel, NJ, Project Number: 035-HD048/NJ39-Q011-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for the Owner to locate an alternate site, arrange for additional funding and find a general contractor.

Contact: Willie Spearmon, Director, Office of Housing Assistance and Grant Administration, Department of Housing and Urban Development, 451 Seventh Street, SW., Washington, DC 20410-8000, telephone 202-708-3000.

• Regulation: 24 CFR 891.165.

Project/Activity: Columbia Supportive Living, Knowlton, NJ, Project Number: 031-HD131/NJ39-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for HUD to process the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Fayete Hills Unity, Oak Hill, WV, Project Number: 04-HD033/WV15-Q011-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for the owner to secure secondary financing.

Contact: Willie Spearmon, Director, Office of Housing Assistance and Grant Administration, Department of Housing and Urban Development, 451 Seventh Street, SW., Washington, DC 20410-8000, telephone 202-708-3000.

• Regulation: 24 CFR 891.165.

Project/Activity: Hickory Lane One, Princess Anne, MD, Project Number: 052-EE035/MD06-S001-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed due to a site change.

Contact: Willie Spearmon, Director, Office of Housing Assistance and Grant Administration, Department of Housing and Urban Development, 451 Seventh Street, SW., Washington, DC 20410-8000, telephone 202-708-3000.

• Regulation: 24 CFR 891.165.

Project/Activity: Monmouth Homes 2002, Freehold, NJ, Project Number: 031-HD134/NJ39-Q021-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for HUD to process the firm commitment application.

Contact: Willie Spearmon, Director, Office of Housing Assistance and Grant Administration, Department of Housing and Urban Development, 451 Seventh Street, SW., Washington, DC 20410-8000, telephone 202-708-3000.

• Regulation: 24 CFR 891.165.

Project/Activity: LaPalma Apartments, Miami, FL, Project Number: 066-EE093/FL29-S021-014.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for the owner to secure secondary financing.

Contact: Willie Spearmon, Director, Office of Housing Assistance and Grant Administration, Department of Housing and Urban Development, 451 Seventh Street, SW., Washington, DC 20410-8000, telephone 202-708-3000.

• Regulation: 24 CFR 891.165.

Project/Activity: McGregor Apartments, East Cleveland, OH, Project Number: 042-EE138/OH12-S021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for HUD to issue the firm commitment.

Contact: Willie Spearmon, Director, Office of Housing Assistance and Grant Administration, Department of Housing and Urban Development, 451 Seventh Street, SW., Washington, DC 20410-8000, telephone 202-708-3000.

• Regulation: 24 CFR 891.165.

Project/Activity: Residence Connection, Bowling Green, OH, Project Number: 042-HD111/OH12-Q021-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 12, 2004.

Reason Waived: Additional time was needed for HUD to issue the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Nuiqsut Alaska, Nuiqsut, AK, Project Number: 176-EE033/AK06-S021-008.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 14, 2004.

Reason Waived: Additional time was needed for the owner to secure additional funding.

Contact: Willie Spearmon, Director, Office of Housing Assistance and Grant Administration, Department of Housing and Urban Development, 451 Seventh Street, SW., Washington, DC 20410-8000, telephone 202-708-3000.

• Regulation: 24 CFR 891.165.

Project/Activity: Wren's Way, Wooster, OH, Project Number: 042-HD108/OH12-Q021-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 16, 2004.

Reason Waived: Additional time was needed for HUD to process the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Vernon Senior Housing, Vernon, VT, Project Number: 024-EE068/VT36-S021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 16, 2004.

Reason Waived: Additional time was needed for the owner to secure the permit.

Contact: Willie Spearmon, Director, Office of Housing Assistance and Grant Administration, Department of Housing and Urban Development, 451 Seventh Street, SW., Washington, DC 20410-8000, telephone 202-708-3000.

• Regulation: 24 CFR 891.165.

Project/Activity: Point Hope, Alaska, Point Hope, AK, Project Number: 176-EE029/AK06--021-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 16, 2004.

Reason Waived: Additional time was needed for the owner to secure additional funding.

Contact: Willie Spearmon, Director, Office of Housing Assistance and Grant

Administration, Department of Housing and Urban Development, 451 Seventh Street, SW., Washington, DC 20410-8000, telephone 202-708-3000.

• Regulation: 24 CFR 891.165.

Project/Activity: Wainwright, Alaska, Wainwright, AK, Project Number: 176-EE031/AK06-S021-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 16, 2004.

Reason Waived: Additional time was needed for the owner to secure additional funding.

Contact: Willie Spearmon, Director, Office of Housing Assistance and Grant Administration, Department of Housing and Urban Development, 451 Seventh Street, SW., Washington, DC 20410-8000, telephone 202-708-3000.

• Regulation: 24 CFR 891.165.

Project/Activity: Fullerton Apartments, Fullerton, CA, Project Number: 143-HD014/CA43-Q021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 17, 2004.

Reason Waived: Additional time was needed for the City of Fullerton to complete the plan check review.

Contact: Willie Spearmon, Director, Office of Housing Assistance and Grant Administration, Department of Housing and Urban Development, 451 Seventh Street, SW., Washington, DC 20410-8000, telephone 202-708-3000.

• Regulation: 24 CFR 891.165.

Project/Activity: Kaktovik, Alaska, Kaktovik, Alaska, Project Number: 176-EE030/AK06-S021-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 18, 2004.

Reason Waived: Additional time was needed for the owner to secure secondary financing.

Contact: Willie Spearmon, Director, Office of Housing Assistance and Grant Administration, Department of Housing and Urban Development, 451 Seventh Street, SW., Washington, DC 20410-8000, telephone 202-708-3000.

• Regulation: 24 CFR 891.165.

Project/Activity: Community Hope VIII Consumer Home, Franklin, NJ, Project Number: 031-HD132/NJ39-Q021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 18, 2004.

Reason Waived: Additional time was needed due to a site change and for the owner to obtain additional funding.

Contact: Willie Spearmon, Director, Office of Housing Assistance and Grant Administration, Department of Housing and Urban Development, 451 Seventh Street, SW., Washington, DC 20410-8000, telephone 202-708-3000.

• Regulation: 24 CFR 891.165.

Project/Activity: Cecilian Village, Philadelphia, PA, Project Number: 034-EE121/PA26-S021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 18, 2004.

Reason Waived: Additional time was needed due to a site change.

Contact: Willie Spearmon, Director, Office of Housing Assistance and Grant Administration, Department of Housing and Urban Development, 451 Seventh Street, SW., Washington, DC 20410-8000, telephone 202-708-3000.

• Regulation: 24 CFR 891.165.

Project/Activity: William W. Winpisinger, Cleveland, OH, Project Number: 042-EE145/OH12-S021-008.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 18, 2004.

Reason Waived: Additional time was needed for the owner to resolve issues with the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Pioneer Abodes, Portland, OR, Project Number: 126-HD037/OR16-Q021-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 18, 2004.

Reason Waived: Additional time was needed for the owner to resolve design issues due to a recent change in local design requirements.

Contact: Willie Spearmon, Director, Office of Housing Assistance and Grant Administration, Department of Housing and Urban Development, 451 Seventh Street, SW., Washington, DC 20410-8000, telephone 202-708-3000.

• Regulation: 24 CFR 891.165.

Project/Activity: St. Vincent De Paul Gardens, Miami, FL, Project Number: 066-EE089/FL29-S021-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 18, 2004.

Reason Waived: Additional time was needed for the owner to respond to deficiency items in the initial closing package.

Contact: Willie Spearmon, Director, Office of Housing Assistance and Grant Administration, Department of Housing and Urban Development, 451 Seventh Street, SW., Washington, DC 20410-8000, telephone 202-708-3000.

• Regulation: 24 CFR 891.165.

Project/Activity: OMHS Housing 2002, Lanoka Harbour, NJ, Project Number: 035-HD052/NJ39-Q021-008.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 18, 2004.

Reason Waived: Additional time was needed due to a site change and for the owner to obtain additional funding.

Contact: Willie Spearmon, Director, Office of Housing Assistance and Grant Administration, Department of Housing and Urban Development, 451 Seventh Street, SW., Washington, DC 20410-8000, telephone 202-708-3000.

• Regulation: 24 CFR 891.165.

Project/Activity: Nanaikeola Senior Apartments, Waianae, HI, Project Number: 140-EE019/HI10-S991-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 18, 2004.

Reason Waived: Additional time was needed for the owner to resolve issues with the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Lake Senior Housing, Lake Township, OH, Project Number: 042-EE146/OH12-S021-009.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 19, 2004.

Reason Waived: Additional time was needed for HUD to issue the firm commitment.

Contact: Willie Spearmon, Director, Office of Housing Assistance and Grant Administration, Department of Housing and Urban Development, 451 Seventh Street, SW., Washington, DC 20410-8000, telephone 202-708-3000.

• Regulation: 24 CFR 891.165.

Project/Activity: Warwick House, Thousand Oaks, CA, Project Number: 122-HD152/CA16-Q021-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 19, 2004.

Reason Waived: Additional time was needed for the owner to submit the plans to the city for the plan check review.

Contact: Willie Spearmon, Director, Office of Housing Assistance and Grant Administration, Department of Housing and Urban Development, 451 Seventh Street, SW., Washington, DC 20410-8000, telephone 202-708-3000.

• Regulation: 24 CFR 891.165.

Project/Activity: Mar Vista House, Oceanside, CA, Project Number: 129-HD027/CA33-Q021-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 19, 2004.

Reason Waived: Additional time was needed for the City of Oceanside to complete the plan check review.

Contact: Willie Spearmon, Director, Office of Housing Assistance and Grant Administration, Department of Housing and Urban Development, 451 Seventh Street, SW., Washington, DC 20410-8000, telephone 202-708-3000.

• Regulation: 24 CFR 891.165.

Project/Activity: Community Hope VI, Roxbury, NJ, Project Number: 031-HD128/NJ39-Q011-007.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 19, 2004.

Reason Waived: Additional time was needed for the general contractor to obtain a permit and the owner to receive a water waiver from the township.

Contact: Willie Spearmon, Director, Office of Housing Assistance and Grant Administration, Department of Housing and Urban Development, 451 Seventh Street, SW., Washington, DC 20410-8000, telephone 202-708-3000.

• Regulation: 24 CFR 891.165.

Project/Activity: Apple Grove II Apartments, Lisbon, OH, Project Number: 042-HD103/OH12-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 22, 2004.

Reason Waived: Additional time was needed for the owner to obtain a release of a lien by the Department of Mental Health and a letter from the Internal Revenue Service (IRS).

Contact: Willie Spearmon, Director, Office of Housing Assistance and Grant Administration, Department of Housing and Urban Development, 451 Seventh Street, SW., Washington, DC 20410-8000, telephone 202-708-3000.

• Regulation: 24 CFR 891.165.

Project/Activity: Bausman Street Independent Living, Pittsburgh, PA, Project Number: 033-HD078/PA28-Q021-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 22, 2004.

Reason Waived: Additional time was needed for the owner to resolve site issues and secure secondary financing.

Contact: Willie Spearmon, Director, Office of Housing Assistance and Grant Administration, Department of Housing and Urban Development, 451 Seventh Street, SW., Washington, DC 20410-8000, telephone 202-708-3000.

• Regulation: 24 CFR 891.165.

Project/Activity: Village at King Creek, Hendersonville, NC, Project Number: 053-HD205/NC19-Q021-008.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 23, 2004.

Reason Waived: Additional time was needed for the project to reach initial closing.

Contact: Willie Spearmon, Director, Office of Housing Assistance and Grant Administration, Department of Housing and Urban Development, 451 Seventh Street, SW., Washington, DC 20410-8000, telephone 202-708-3000.

• Regulation: 24 CFR 891.165.

Project/Activity: VOA Sandusky, Sandusky, OH, Project Number: 042-HD110/OH12-Q021-008.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 23, 2004.

Reason Waived: Additional time was needed for the project to reach initial closing.

Contact: Willie Spearmon, Director, Office of Housing Assistance and Grant Administration, Department of Housing and Urban Development, 451 Seventh Street, SW., Washington, DC 20410-8000, telephone 202-708-3000.

• Regulation: 24 CFR 891.165.

Project/Activity: Family Services of Western Pennsylvania IV, Vandergrift, PA, Project Number: 033-HD075/PA28-Q021-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 23, 2004.

Reason Waived: Additional time was needed for the firm commitment to be issued.

Contact: Willie Spearmon, Director, Office of Housing Assistance and Grant Administration, Department of Housing and Urban Development, 451 Seventh Street, SW., Washington, DC 20410-8000, telephone 202-708-3000.

• Regulation: 24 CFR 891.165.

Project/Activity: Vermont Seniors, Los Angeles, CA, Project Number: 122-EE148/CA16-Q981-017.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 23, 2004.

Reason Waived: Additional time was needed for the project to reach initial closing.

Contact: Willie Spearmon, Director, Office of Housing Assistance and Grant Administration, Department of Housing and Urban Development, 451 Seventh Street, SW., Washington, DC 20410-8000, telephone 202-708-3000.

• Regulation: 24 CFR 891.165.

Project/Activity: Alleluia House, Anaheim, CA, Project Number: 143-HD015/CA43-Q021-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 23, 2004.

Reason Waived: Additional time was needed for the owner to secure additional funding.

Contact: Willie Spearmon, Director, Office of Housing Assistance and Grant Administration, Department of Housing and Urban Development, 451 Seventh Street, SW., Washington, DC 20410-8000, telephone 202-708-3000.

• Regulation: 24 CFR 891.165.

Project/Activity: Oak Knoll Villas, San Antonio, TX, Project Number: 115-EE065/TX59-S021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 26, 2004.

Reason Waived: Additional time was needed due to unresolved site issues and review of the new plans.

Contact: Willie Spearmon, Director, Office of Housing Assistance and Grant Administration, Department of Housing and Urban Development, 451 Seventh Street, SW., Washington, DC 20410-8000, telephone 202-708-3000.

• Regulation: 24 CFR 891.165.

Project/Activity: Hall Commons, Bridgeport, CT, Project Number: 017-EE063/CT26-S001-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 26, 2004.

Reason Waived: Additional time was needed for HUD to reprocess the firm commitment application due to zoning issues.

Contact: Willie Spearmon, Director, Office of Housing Assistance and Grant Administration, Department of Housing and Urban Development, 451 Seventh Street, SW., Washington, DC 20410-8000, telephone 202-708-3000.

• Regulation: 24 CFR 891.165.

Project/Activity: Huntleigh Crossing, San Antonio, TX, Project Number: 115-HD038/TX59-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 29, 2004.

Reason Waived: Additional time was needed for the project to reach initial closing.

Contact: Willie Spearmon, Director, Office of Housing Assistance and Grant Administration, Department of Housing and Urban Development, 451 Seventh Street, SW., Washington, DC 20410-8000, telephone 202-708-3000.

• Regulation: 24 CFR 891.165.

Project/Activity: Gruber Mills at Spring City, Spring City, PA, Project Number: 034-EE123/PA26-S021-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 29, 2004.

Reason Waived: Additional time was needed for the owner to secure secondary financing.

Contact: Willie Spearmon, Director, Office of Housing Assistance and Grant Administration, Department of Housing and Urban Development, 451 Seventh Street, SW., Washington, DC 20410-8000, telephone 202-708-3000.

• Regulation: 24 CFR 891.165.

Project/Activity: Red Lake Apartments, Red Lake, MN, Project Number: 092-EE087/MN46-S021-008.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 29, 2004.

Reason Waived: Additional time was needed for the owner to prepare the initial closing documents.

Contact: Willie Spearmon, Director, Office of Housing Assistance and Grant Administration, Department of Housing and Urban Development, 451 Seventh Street, SW., Washington, DC 20410-8000, telephone 202-708-3000.

• Regulation: 24 CFR 891.165.

Project/Activity: Balsam Lake Disabled Housing, Balsam Lake, WI, Project Number: 075-HD069/WI39-Q011-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 29, 2004.

Reason Waived: Additional time was needed for the owner to submit the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Goremont, Tabor City, NC, Project Number: 053-HD203/NC19-Q021-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 29, 2004.

Reason Waived: Additional time was needed for HUD to process the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Washington Lane Section 811 Housing, Philadelphia, PA, Project Number: 034-HD070/PA26-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 29, 2004.

Reason Waived: Additional time was needed for HUD to process the firm commitment application.

Contact: Willie Spearmon, Director, Office of Housing Assistance and Grant Administration, Department of Housing and Urban Development, 451 Seventh Street, SW, Washington, DC 20410-8000, telephone 202-708-3000.

• Regulation: 24 CFR 891.165.

Project/Activity: University Court, Winston-Salem, NC, Project Number: 053-HD199/NC19-Q021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: November 30, 2004.

Reason Waived: Additional time was needed for HUD to review the initial closing documents.

Contact: Willie Spearmon, Director, Office of Housing Assistance and Grant Administration, Department of Housing and Urban Development, 451 Seventh Street, SW., Washington, DC 20410-8000, telephone 202-708-3000.

• Regulation: 24 CFR 891.165.

Project/Activity: Montgomery Community Homes I, Montgomery, AL, Project Number: 062-HD052/AL09-Q021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 3, 2004.

Reason Waived: Additional time was needed for HUD to review the initial closing documents.

Contact: Willie Spearmon, Director, Office of Housing Assistance and Grant Administration, Department of Housing and Urban Development, 451 Seventh Street, SW., Washington, DC 20410-8000, telephone 202-708-3000.

• Regulation: 24 CFR 891.165.

Project/Activity: Garden of Hope Inc., Birmingham, AL, Project Number: 062-EE057/AL06-S021-004.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 6, 2004.

Reason Waived: Additional time was needed for HUD to process the initial closing documents.

Contact: Willie Spearmon, Director, Office of Housing Assistance and Grant Administration, Department of Housing and Urban Development, 451 Seventh Street, SW., Washington, DC 20410-8000, telephone 202-708-3000.

• Regulation: 24 CFR 891.165.

Project/Activity: VOA Mora, Mora, MN, Project Number: 092-HD056/MN46-Q021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 6, 2004.

Reason Waived: Additional time was needed for the project to be redesigned.

Contact: Willie Spearmon, Director, Office of Housing Assistance and Grant Administration, Department of Housing and Urban Development, 451 Seventh Street, SW., Washington, DC 20410-8000, telephone 202-708-3000.

• Regulation: 24 CFR 891.165.

Project/Activity: Montgomery Community Homes II, Montgomery, AL, Project Number: 062-HD051/AL09-Q0221-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 6, 2004.

Reason Waived: Additional time was needed for HUD to review the initial closing documents.

Contact: Willie Spearmon, Director, Office of Housing Assistance and Grant Administration, Department of Housing and Urban Development, 451 Seventh Street, SW., Washington, DC 20410-8000, telephone 202-708-3000.

• Regulation: 24 CFR 891.165.

Project/Activity: St. George Housing Corporation, Superior, WI, Project Number: 075-HD074/WI39-Q021-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 6, 2004.

Reason Waived: Additional time was needed for the owner to submit the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Capital City Community Homes, Montgomery, AL, Project Number: 062-HD053/AL09-Q0221-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 6, 2004.

Reason Waived: Additional time was needed for HUD to review the initial closing documents.

Contact: Willie Spearmon, Director, Office of Housing Assistance and Grant Administration, Department of Housing and Urban Development, 451 Seventh Street, SW., Washington, DC 20410-8000, telephone 202-708-3000.

• Regulation: 24 CFR 891.165.

Project/Activity: Wood Lane Homes I, Bowling Green, OH, Project Number: 042-HD109/OH12-Q0221-007.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 17, 2004.

Reason Waived: Additional time was needed for HUD to process the firm commitment application.

Contact: Willie Spearmon, Director, Office of Housing Assistance and Grant Administration, Department of Housing and Urban Development, 451 Seventh Street, SW., Washington, DC 20410-8000, telephone 202-708-3000.

• Regulation: 24 CFR 891.165.

Project/Activity: New Life Senior Resort, Christiansted, St. Croix, VI, Project Number: 056-EE047/VQ46-S021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 17, 2004.

Reason Waived: Additional time was needed for the owner to secure the 501(c)(3) tax exemption.

Contact: Willie Spearmon, Director, Office of Housing Assistance and Grant Administration, Department of Housing and Urban Development, 451 Seventh Street, SW, Washington, DC 20410-8000, telephone 202-708-3000.

• Regulation: 24 CFR 891.165.

Project/Activity: Scalibrini House, Torrance, CA, Project Number: 122-HD156/CA16-Q021-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 17, 2004.

Reason Waived: Additional time was needed for the owner to submit the firm commitment application.

Contact: Willie Spearmon, Director, Office of Housing Assistance and Grant Administration, Department of Housing and Urban Development, 451 Seventh Street, SW., Washington, DC 20410-8000, telephone 202-708-3000.

• Regulation: 24 CFR 891.165.

Project/Activity: TBD, Cicero, NY, Project Number: 014-EE215/NY06-S021-003.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 17, 2004.

Reason Waived: Additional time was needed for the owner to locate another site.

Contact: Willie Spearmon, Director, Office of Housing Assistance and Grant Administration, Department of Housing and Urban Development, 451 Seventh Street, SW., Washington, DC 20410-8000, telephone 202-708-3000.

• Regulation: 24 CFR 891.165.

Project/Activity: Rockland ARC Visions, Suffern, NY, Project Number: 012-HD109/NY36-Q011-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 17, 2004.

Reason Waived: Additional time was needed for HUD to review the secondary financing documents.

Contact: Willie Spearmon, Director, Office of Housing Assistance and Grant Administration, Department of Housing and Urban Development, 451 Seventh Street, SW., Washington, DC 20410-8000, telephone 202-708-3000.

• Regulation: 24 CFR 891.165.

Project/Activity: Brook Street Apartments, Ilion, NY, Project Number: 014-HD110/NY06-Q021-005.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 20, 2004.

Reason Waived: Additional time was needed for the owner to select another general contractor.

Contact: Willie Spearmon, Director, Office of Housing Assistance and Grant Administration, Department of Housing and Urban Development, 451 Seventh Street, SW., Washington, DC 20410-8000, telephone 202-708-3000.

• Regulation: 24 CFR 891.165.

Project/Activity: Share X, Port Jefferson Station, NY, Project Number: 012-HD111/NY36-Q021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 21, 2004.

Reason Waived: Additional time was needed for the owner to a secure building permit.

Contact: Willie Spearmon, Director, Office of Housing Assistance and Grant Administration, Department of Housing and Urban Development, 451 Seventh Street, SW., Washington, DC 20410-8000, telephone 202-708-3000.

• Regulation: 24 CFR 891.165.

Project/Activity: Caribou House, Torrance, CA, Project Number: 122-HD157/CA16-Q021-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 22, 2004.

Reason Waived: Additional time was needed for the owner to submit the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Luther Village I of Dover, Dover, DE, Project Number: 032-EE012/DE26-S021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 22, 2004.

Reason Waived: Additional time was needed for the owner to submit the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Holy Angels Apartments Phase II, Bridgeton, MO, Project Number: 085-EE061/MO36-S002-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 22, 2004.

Reason Waived: Additional time was needed for the owner to obtain an easement from the land owner.

Contact: Willie Spearmon, Director, Office of Housing Assistance and Grant Administration, Department of Housing and Urban Development, 451 Seventh Street, SW., Washington, DC 20410-8000, telephone 202-708-3000.

• Regulation: 24 CFR 891.165.

Project/Activity: Senior Housing at Mahopac Hills, Mahopac, NY, Project Number: 012-EE262/NY36-S991-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 22, 2004.

Reason Waived: Additional time was needed for HUD to review the secondary financing documents.

Contact: Willie Spearmon, Director, Office of Housing Assistance and Grant Administration, Department of Housing and Urban Development, 451 Seventh Street, SW., Washington, DC 20410-8000, telephone 202-708-3000.

• Regulation: 24 CFR 891.165.

Project/Activity: Walter Riley Davis Senior Complex, Milwaukee, WI, Project Number: 075-EE115/WI39-S021-002.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 22, 2004.

Reason Waived: Additional time was needed for the project to reach initial closing.

Contact: Willie Spearmon, Director, Office of Housing Assistance and Grant Administration, Department of Housing and Urban Development, 451 Seventh Street, SW., Washington, DC 20410-8000, telephone 202-708-3000.

• Regulation: 24 CFR 891.165.

Project/Activity: Victor Hernandez, Aguadilla, PR, Project Number: 056-EE045/RQ46-S021-001.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 22, 2004.

Reason Waived: Additional time was needed for HUD to process the firm commitment application.

Contact: Willie Spearmon, Director, Office of Housing Assistance and Grant Administration, Department of Housing and Urban Development, 451 Seventh Street, SW., Washington, DC 20410-8000, telephone 202-708-3000.

• Regulation: 24 CFR 891.165.

Project/Activity: Bishop Goedert Residence, Hines, IL, Project Number: 071-EE178/IL06-S021-006.

Nature of Requirement: Section 891.165 provides that the duration of the fund reservation of the capital advance is 18 months from the date of issuance with limited exceptions up to 24 months, as approved by HUD on a case-by-case basis.

Granted by: John C. Weicher, Assistant Secretary for Housing—Federal Housing Commissioner.

Date Granted: December 22, 2004.

Reason Waived: Additional time was needed for the owner to resolve issues with the leasehold agreement for the site.

Contact: Willie Spearmon, Director, Office of Housing Assistance and Grant Administration, Department of Housing and Urban Development, 451 Seventh Street, SW., Washington, DC 20410-8000, telephone 202-708-3000.

• Regulation: 24 CFR 891.165 and 24 CFR 891.100(d).

Project/Activity: University Senior Housing, Bronx, NY, Project Number: 012-EE320/NY36-S021-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: October 6, 2004.

Reason Waived: The project is economically designed and comparable to similar projects in the area, and the sponsor/owner exhausted all efforts to obtain additional funding from other sources. Also, additional time was needed to prepare the closing documents, to assign a closing attorney and schedule the closing.

Contact: Willie Spearmon, Director, Office of Housing Assistance and Grant Administration, Department of Housing and Urban Development, 451 Seventh Street, SW, Washington, DC 20410-8000, telephone 202-708-3000.

• Regulation: 24 CFR 891.165 and 24 CFR 891.100(d).

Project/Activity: Rockland ARC Visions, Suffern, NY, Project Number: 012-HD109/NY36-Q011-006.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: October 8, 2004.

Reason Waived: The project is economically designed and comparable to similar projects in the area, and the sponsor/owner exhausted all efforts to obtain additional funding from other sources. Also, additional time was needed due to site change.

Contact: Willie Spearmon, Director, Office of Housing Assistance and Grant Administration, Department of Housing and Urban Development, 451 Seventh Street, SW, Washington, DC 20410-8000, telephone 202-708-3000.

• Regulation: 24 CFR 891.165 and 24 CFR 891.100(d).

Project/Activity: Share X, Port Jefferson Station, NY, Project Number: 012-HD111/NY36-Q0221-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: November 3, 2004.

Reason Waived: The project is economically designed and comparable to similar projects in the area, and the sponsor/owner exhausted all efforts to obtain additional funding from other sources. Also, additional time was needed for the owner to submit and for HUD to process the initial closing documents.

Contact: Willie Spearmon, Director, Office of Housing Assistance and Grant Administration, Department of Housing and Urban Development, 451 Seventh Street, SW., Washington, DC 20410-8000, telephone 202-708-3000.

• Regulation: 24 CFR 891.165 and 24 CFR 891.100(d).

Project/Activity: Senior Housing at Mahopac Hills, Mahopac, NY, Project Number: 012-EE262/NY36-S991-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: November 3, 2004.

Reason Waived: The project is economically designed and comparable to similar projects in the area, and the sponsor/owner exhausted all efforts to obtain additional funding from other sources. Also, additional time was needed for the owner to submit and for HUD process of the initial closing documents.

Contact: Willie Spearmon, Director, Office of Housing Assistance and Grant Administration, Department of Housing and Urban Development, 451 Seventh Street, SW., Washington, DC 20410-8000, telephone 202-708-3000.

• Regulation: 24 CFR 891.165 and 24 CFR 891.100(d).

Project/Activity: Rising Dove Senior Apartments, Paterson, NJ, Project Number: 031-EE059/NJ39-S021-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: November 10, 2004.

Reason Waived: The project is economically designed and comparable to similar projects in the area, and the sponsor/owner exhausted all efforts to obtain additional funding from other sources. Also, additional time was needed due to the lenghty local appoval process and owner revisition the plans.

Contact: Willie Spearmon, Director, Office of Housing Assistance and Grant Administration, Department of Housing and Urban Development, 451 Seventh Street, SW., Washington, DC 20410-8000, telephone 202-708-3000.

• Regulation: 24 CFR 891.165 and 24 CFR 891.100(d).

Project/Activity: Percy Abram Jr. Senior Housing, Oakland, CA, Project Number: 121-EE161/CA39-S021-006.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: December 9, 2004.

Reason Waived: The project is economically designed and comparable to similar projects in the area, and the sponsor/owner exhausted all efforts to obtain additional funding from other sources. Also, additional time was needed to prepare for initial closing.

Contact: Willie Spearmon, Director, Office of Housing Assistance and Grant Administration, Department of Housing and Urban Development, 451 Seventh Street, SW., Washington, DC 20410-8000, telephone 202-708-3000.

• Regulation: 24 CFR 891.165 and 24 CFR 891.100(d).

Project/Activity: Mercy Oaks Village, Redding, CA, Project Number: 136-EE068/CA30-S021-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: December 9, 2004.

Reason Waived: The project is economically designed and comparable to similar projects in the area, and the sponsor/owner exhausted all efforts to obtain additional funding from other sources. Also, additional time was needed to issue the firm commitment and prepare for initial closing.

Contact: Willie Spearmon, Director, Office of Housing Assistance and Grant Administration, Department of Housing and Urban Development, 451 Seventh Street, SW., Washington, DC 20410-8000, telephone 202-708-3000.

• Regulation: 24 CFR 891.170.

Project/Activity: Genesee Housing, Seattle, WA, Project Number: 127-HD028/WA19-Q011-001.

Nature of Requirement: Section 891.170 provides, among other things, that to ensure its interest in the capital advance, HUD shall require a note and mortgage, use agreement, capital advance agreement and regulatory agreement from the owner in the form prescribed by HUD.

Granted by: John C. Weicher, Assistant Secretary for Housing—Federal Housing Commissioner.

Date Granted: November 1, 2004.

Reason Waived: It is in the best interest of the project to permit HUD's mortgage to be subordinate to the bank's Deed of Trust, provided HUD's Use Agreement and Regulatory Agreement are recorded prior to the recording of the bank's deed of trust. This waiver allows the mixed finance owner to prepare the project for closing.

Contact: Willie Spearmon, Director, Office of Housing Assistance and Grant Administration, Department of Housing and Urban Development, 451 Seventh Street, SW., Washington, DC 20410-8000, telephone 202-708-3000.

• Regulation: 24 CFR 891.205.

Project/Activity: Robert H. Moore Senior Housing, Brooklyn, NY, Project Number: 012-EE324/NY36-S021-005.

Nature of Requirement: Section 891.205 requires Section 202 sponsor/owners to have tax-exempt status under Section 501(c)(3) or (c)(4) of the Internal Revenue Code.

Granted by: John C. Weicher, Assistant Secretary for Housing—Federal Housing Commissioner.

Date Granted: October 13, 2004.

Reason Waived: The required tax-exemption ruling from IRS was not received in time for the scheduled initial closing of the project.

Contact: Willie Spearmon, Director, Office of Housing Assistance and Grant Administration, Department of Housing and Urban Development, 451 Seventh Street, SW., Washington, DC 20410-8000, telephone 202-708-3000.

• Regulation: 24 CFR 891.310(b)(1) and (b)(2).

Project/Activity: Share X, Port Jefferson Station, NY, Project Number: 012-HD111/NY36-Q021-002.

Nature of Requirement: Section 891.310(b)(1) and (b)(2) requires that all entrances, common areas, units to be occupied by resident staff, and amenities must be readily accessible to and usable by persons with disabilities.

Granted by: John C. Weicher, Assistant Secretary for Housing—Federal Housing Commissioner.

Date Granted: October 28, 2004.

Reason Waived: The project consists of nine scattered sites for independent living for persons with chronic mental illness. One home will be made fully accessible, which will result in 11 percent of the total project meeting the accessibility requirements.

Contact: Willie Spearmon, Director, Office of Housing Assistance and Grant Administration, Department of Housing and Urban Development, 451 Seventh Street, SW., Washington, DC 20410-8000, telephone 202-708-3000.

• Regulation: 24 CFR 891.310(b)(1) and (b)(2).

Project/Activity: Venture Development 2002, New York City, NY, Project Number: 012-HD112/NY36-Q021-003.

Nature of Requirement: Section 891.310(b)(1) and (b)(2) requires that all entrances, common areas, units to be occupied by resident staff, and amenities must be readily accessible to and usable by persons with disabilities.

Granted by: John C. Weicher, Assistant Secretary for Housing—Federal Housing Commissioner.

Date Granted: October 28, 2004.

Reason Waived: The project consists of three single-family homes to be developed into group homes to serve eighteen persons with development disabilities. One home will be made fully accessible, which will result in 33 percent of the total project meeting the accessibility requirements.

Contact: Willie Spearmon, Director, Office of Housing Assistance and Grant Administration, Department of Housing and Urban Development, 451 Seventh Street, SW, Washington, DC 20410-8000, telephone 202-708-3000.

• Regulation: 24 CFR 891.808(a).

Project/Activity: Genesee Housing, Seattle, WA, Project Number: 127-HD028/WA19-Q011-001.

Nature of Requirement: Section 891.808(a) requires a mixed finance owner to repay the loan from the non-profit general partner within 40 years at the Section 202 or Section 811 interest rate in effect on the date of the closing of the capital advance.

Granted by: John C. Weicher, Assistant Secretary for Housing—Federal Housing Commissioner.

Date Granted: November 1, 2004.

Reason Waived: It is in the program's best interest to allow the parties of the mixed-finance project to structure the transactions in the most appropriate way for the development, subject to compliance with legal requirements and HUD's review and approval.

Contact: Willie Spearmon, Director, Office of Housing Assistance and Grant Administration, Department of Housing and Urban Development, 451 Seventh Street, SW., Washington, DC 20410-8000, telephone 202-708-3000.

• Regulation: 24 CFR 891.818(a)(2) and (4).

Project/Activity: Genesee Housing, Seattle, WA, Project Number: 127-HD028/WA19-Q011-001.

Nature of Requirement: Section 891.818(a)(2) requires the organizational documents of a mixed-finance owner and nonprofit organization to be submitted with the firm commitment applicanton. Section 891.818(a)(4) requires a balance sheet showing that the mixed-finance owner is adequately capitalized.

Granted by: John C. Weicher, Assistant Secretary for Housing—Federal Housing Commissioner.

Date Granted: November 1, 2004.

Reason Waived: Processing the organizational documents of the mixed-finance owner and balance sheet at the initial closing for this mixed-finance project is consistent with the way the Department handles other real estate transactions.

Contact: Willie Spearmon, Director, Office of Housing Assistance and Grant Administration, Department of Housing and Urban Development, 451 Seventh Street, SW., Washington, DC 20410-8000, telephone 202-708-3000.

• Regulation: 24 CFR 891.820(b).

Project/Activity: Genesee Housing, Seattle, WA, Project Number: 127-HD028/WA19-Q011-001.

Nature of Requirement: Section 891.820(b) requires a mixed-finance owner to submit a mixed-finance proposal along with the firm commitment application.

Granted by: John C. Weicher, Assistant Secretary for Housing—Federal Housing Commissioner.

Date Granted: November 1, 2004.

Reason Waived: Permitting the mixed-finance proposal to be submitted at initial closing is consistent with other real estate transactions handled in HUD.

Contact: Willie Spearmon, Director, Office of Housing Assistance and Grant Administration, Department of Housing and Urban Development, 451 Seventh Street, SW., Washington, DC 20410-8000, telephone 202-708-3000.

• Regulation: 24 CFR 891.825(a)(13) and (15).

Project/Activity: Genesee Housing, Seattle, WA, Project Number: 127-HD028/WA19-Q011-001.

Nature of Requirement: Section 891.825(a)(13) requires the sponsor to submit for HUD approval evidentiary materials consisting of the actual documents to support the statements and certifications in the firm commitment application/mixed-finance proposal and other required documents.

Granted by: John C. Weicher, Assistant Secretary for Housing—Federal Housing Commissioner.

Date Granted: November 1, 2004.

Reason Waived: It is in the best interest of the project to permit the mixed-finance owner to enter into the project rental assistance contract (PRAC) directly with HUD, and submit the evidentiary materials at initial closing.

Contact: Willie Spearmon, Director, Office of Housing Assistance and Grant Administration, Department of Housing and Urban Development, 451 Seventh Street, SW., Washington, DC 20410-8000, telephone 202-708-3000.

III. Regulatory Waivers Granted by the Office of Public and Indian Housing

For further information about the following regulatory waivers, please see the name of the contact person that immediately follows the description of the waiver granted.

• Regulation: 24 CFR 902.33(c).

Project/Activity: The Housing Authority of the City of Durham (NC013) Durham, NC.

Nature of Requirement: Section 902.33(c) establishes certain reporting compliance dates. Unaudited financial statements are required to be submitted two months after the public housing agency (PHA) fiscal year end, and audited financial statements will be required no later than nine months after the PHA's fiscal year end, in accordance with the Single Audit Act and OMB Circular A-133.

Granted By: Michael Liu, Assistant Secretary for Public and Indian Housing.

Date Granted: November 5, 2004.

Reason Waived: The PHA requested an extension of the due date because of three investigations by the Office of the Inspector General (OIG). The PHA was granted until November 30, 2004, to submit its audited financial data.

Contact: Judy Wojciechowski, Program Manager, NASS, Real Estate Assessment Center, Office of Public and Indian Housing, Department of Housing and Urban Development, 550 12th Street, SW., Suite 100, Washington, DC 20410, telephone (202) 475-7907.

• Regulation: 24 CFR 902.33(c).

Project/Activity: Hugo Housing Authority (OK044) Hugo, OK.

Nature of Requirement: Section 902.33(c) establishes certain reporting compliance dates/ unaudited financial statements are required to be submitted two months after the PHA fiscal year end, and audited financial statements will be required no later than nine months after the PHA's fiscal year end, in accordance with the Single Audit Act and OMB Circular A-133.

Granted By: Michael Liu, Assistant Secretary for Public and Indian Housing.

Date Granted: November 5, 2004.

Reason Waived: The PHA advised that fraud was discovered, and that as a result of the ensuing investigation, the PHA was unable to submit the audit by the due date. The PHA was granted until November 30, 2004, to submit its audited financial data.

Contact: Judy Wojciechowski, Program Manager, NASS, Real Estate Assessment Center, Office of Public and Indian Housing, Department of Housing and Urban Development, 550 12th Street, SW., Suite 100, Washington, DC 20410, telephone (202) 475-7907.

• Regulation: 24 CFR 902.33(c).

Project/Activity: City of Dumas Housing Authority (AR043) Dumas, AR.

Nature of Requirement: Section 902.33(c) establishes certain reporting compliance dates. Unaudited financial statements are required to be submitted two months after the PHA fiscal year end, and audited financial statements will be required no later than nine months after the PHA's fiscal year end, in accordance with the Single Audit Act and OMB Circular A-133.

Granted By: Michael Liu, Assistant Secretary for Public and Indian Housing.

Date Granted: November 5, 2004.

Reason Waived: The HA alleges an extension of the due date is needed because the Office of the Inspector General (OIG) took all records from the HA for an investigation. The HA has until January 31, 2005, to submit its audited financial data.

Contact: Judy Wojciechowski, Program Manager, NASS, Real Estate Assessment Center, Office of Public and Indian Housing, Department of Housing and Urban Development, 550 12th Street, SW., Suite 100, Washington, DC 20410, telephone (202) 475-7907.

• Regulation: 24 CFR 902.33(c).

Project/Activity: Housing Authority of the City of Dallas (TX009) Dallas, TX.

Nature of Requirement: The regulation establishes certain reporting compliance dates. Unaudited financial statements are required to be submitted two months after the PHA fiscal year end, and audited financial statements will be required no later than nine months after the PHA's fiscal year end, in accordance with the Single Audit Act and OMB Circular A-133.

Granted By: Michael Liu, Assistant Secretary for Public and Indian Housing.

Date Granted: November 5, 2004.

Reason Waived: The PHA alleges a new auditor was hired. The auditor questioned the previous audit, and closely looked at all transactions which required restating the beginning balances. During the audit process, the auditor was hospitalized, which put the PHA in the positions of submitting its data without assistance from the auditor. The PHA was granted until November 30, 2004, to submit its audited financial data.

Contact: Judy Wojciechowski, Program Manager, NASS, Real Estate Assessment Center, Office of Public and Indian Housing, Department of Housing and Urban Development, 550 12th Street, SW., Suite 100, Washington, DC 20410, telephone (202) 475-7907.

• Regulation: 24 CFR 902.33(c).

Project/Activity: Hamtramck Housing Commission (MI004) Hamtramk, MI.

Nature of Requirement: The regulation establishes certain reporting compliance dates. Unaudited financial statements are required to be submitted two months after the PHA fiscal year end, and audited financial statements will be required no later than nine months after the PHA's fiscal year end, in accordance with the Single Audit Act and OMB Circular A-133.

Granted By: Michael Liu, Assistant Secretary for Public and Indian Housing.

Date Granted: November 5, 2004.

Reason Waived: The PHA advised that HUD's Detroit Field Office was in possession of the PHA's records during the audit period. The PHA was granted until November 30, 2004, to submit its audited financial data.

Contact: Judy Wojciechowski, Program Manager, NASS, Real Estate Assessment Center, Office of Public and Indian Housing, Department of Housing and Urban Development, 550 12th Street, SW., Suite 100, Washington, DC 20410, telephone (202) 475-7907.

• Regulation: 24 CFR 902.33(c).

Project/Activity: Junction City Housing Authority (KS105) Junction City, KS.

Nature of Requirement: The regulation establishes certain reporting compliance dates. Unaudited financial statements are required to be submitted two months after the public housing agency (PHA) fiscal year end, and audited financial statements will be required no later than nine months after the PHA's fiscal year end, in accordance with the Single Audit Act and OMB Circular A-133.

Granted By: Michael Liu, Assistant Secretary for Public and Indian Housing.

Date Granted: November 12, 2004.

Reason Waived: The HA alleges that the auditor encountered significant questioned costs and internal control matters that precluded the completion of the audit by the due date. The HA has until November 30, 2004, to submit its audit.

Contact: Judy Wojciechowski, Program Manager, NASS, Real Estate Assessment Center, Office of Public and Indian Housing, Department of Housing and Urban Development, 550 12th Street, SW., Suite 100, Washington, DC 20410, telephone (202) 475-7907.

• Regulation: 24 CFR 902.33(c).

Project/Activity: Orlando Housing Authority (FL004) Orlando, FL.

Nature of Requirement: The regulation establishes certain reporting compliance dates. Unaudited financial statements are required to be submitted two months after the public housing agency (PHA) fiscal year end, and audited financial statements will be required no later than nine months after the PHA's fiscal year end, in accordance with the Single Audit Act and OMB Circular A-133.

Granted By: Michael Liu, Assistant Secretary for Public and Indian Housing.

Date Granted: December 22, 2004.

Reason Waived: The HA alleges an extension of the due date is needed because the Office of the Inspector General (OIG) is conducting an investigation. The HA has until March 31, 2005, to submit its audited financial data.

Contact: Judy Wojciechowski, Program Manager, NASS, Real Estate Assessment Center, Office of Public and Indian Housing, Department of Housing and Urban Development, 550 12th Street, SW., Suite 100, Washington, DC 20410, telephone (202) 475-7907.

• Regulation: 24 CFR 982.505(d).

Project/Activity: Howard County Housing Commission (HCHC), Columbia, MD. HCHC requested approval of a special exception payment standard that exceeds 120 percent of the fair market rent as a reasonable accommodation for a housing choice voucher holder's disability.

Nature of Requirement: Section 982.505(d) allows a public housing agency (PHA) to approve a higher payment standard within the basic range for a family that includes a person with a disability as a reasonable accommodation in accordance with 24 CFR part 8.

Granted By: Michael Liu, Assistant Secretary for Public and Indian Housing.

Date Granted: October 14, 2004.

Reason Waived: Approval of the waiver was granted to allow a disabled housing choice voucher holder to obtain an accessible unit so that she could maintain her health and live independently.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 982.505(d).

Project/Activity: Housing Authority of Washington County (HAWC), Portland, OR. HAWC requested an extension of a special exception payment standard that exceeds 120 percent of the fair market rent as a reasonable accommodation for a housing choice voucher holder's disabilities.

Nature of Requirement: Section 982.505(d) of HUD's regulations allows a PHA to approve a higher payment standard within the basic range for a family that includes a person with a disability as a reasonable accommodation in accordance with 24 CFR part 8.

Granted By: Michael Liu, Assistant Secretary for Public and Indian Housing.

Date Granted: December 3, 2004.

Reason Waived: Approval of the waiver was granted to allow a disabled housing choice voucher holder to continue to reside in the two-bedroom townhouse that has enabled her to maintain her health and live independently.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 983.51(a), (b) and (c).

Project/Activity: Housing Authority of New Orleans (HANO), New Orleans, LA. The HANO requested a waiver of competitive selection of owner proposals and waiting list requirements to permit it to attach project-based assistance (PBA) to units at the Florida and Guste Projects.

Nature of Requirement: Section 983.51(a), (b) and (c) require competitive selection of owner proposals in accordance with a PHA's HUD-approved advertisement and unit selection policy.

Granted By: Michael Liu, Assistant Secretary for Public and Indian Housing.

Date Granted: October 15, 2004.

Reason Waived: Approval to waive competitive selection was granted based on the uniqueness of the circumstances confronting the HANO and the City of New Orleans low-income residents. Those circumstances include administrative receivership, lack of affordable housing in New Orleans and a complex ownership structure.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 983.51(a), (b) and (c).

Project/Activity: Housing Authority of New Orleans (HANO), New Orleans, LA. HANO requested a waiver of competitive selection of owner proposals and waiting list requirements to permit it to attach project-based assistance (PBA) to units at the St. Thomas Revitalization Project.

Nature of Requirement: Section 983.51(a), (b) and (c) of HUD's regulations requires competitive selection of owner proposals in accordance with a PHA's HUD-approved advertisement and unit selection policy.

Granted By: Michael Liu, Assistant Secretary for Public and Indian Housing.

Date Granted: October 27, 2004.

Reason Waived: Approval to waive competitive selection was granted based on the uniqueness of the circumstances confronting HANO and the City of New Orleans low-income residents. Those circumstances include administrative receivership, lack of affordable housing in New Orleans and a complex ownership structure.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 983.51(a), (b) and (c).

Project/Activity: Housing Authority of the County of Santa Barbara (HACSB), Santa Barbara, CA. HACSB requested a waiver of competitive selection of owner proposals to permit it to attach PBA to 28 units at Central Plaza Apartments.

Nature of Requirement: Section 983.51(a), (b) and (c) requires competitive selection of owner proposals in accordance with a PHA's HUD-approved advertisement and unit selection policy.

Granted By: Michael Liu, Assistant Secretary for Public and Indian Housing.

Date Granted: December 7, 2004.

Reason Waived: Approval to waive competitive selection was granted since the project underwent a competitive process for tax-exempt bonds without any prior commitment of PBA.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 983.51(a), (b) and (c).

Project/Activity: Melville Housing Authority (MHA), Melville, NJ. MHA requested a waiver of competitive selection of owner proposals to permit it to attach PBA to 29 units at Oakview Apartments.

Nature of Requirement: Section 983.51(a), (b) and (c) of HUD's regulations requires competitive selection of owner proposals in accordance with a PHA's HUD-approved advertisement and unit selection policy.

Granted By: Michael Liu, Assistant Secretary for Public and Indian Housing.

Date Granted: December 21, 2004.

Reason Waived: Approval to waive competitive selection was granted since the project underwent a comparable competitive process for tax-exempt bonds through the New Jersey Housing Mortgage Finance Agency without any prior commitment of PBA.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 983.51(a), (b) and (c), 983.55 (a) and (d).

Project/Activity: Housing Authority of the City of Tacoma, Washington (THA), Tacoma, WA. THA requested a waiver of competitive selection of owner proposals and waiting list requirements to permit it to attach PBA to 35 units at the Salishan One and Salishan Two Projects.

Nature of Requirement: Sections 983.51(a), (b) and (c) and 983.55(a) and (d) require competitive selection of owner proposals in accordance with a public housing agency's (PHA), HUD-approved advertisement and unit selection policy.

Granted By: Michael Liu, Assistant Secretary for Public and Indian Housing.

Date Granted: October 25, 2004.

Reason Waived: Approval to waive competitive selection was granted since the projects successfully competed for financing in Washington State. Each project received allocations of nine percent Low Income Housing Tax Credits through the competitive selection process of the Washington State Housing Finance Commission. In addition, the projects were competitively awarded funds through the Washington State Housing Trust Fund and the Federal Home Loan Bank Affordable Housing Program.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 983.51(a), (b) and (c), 983.55 (a) and (d), and 983.203(a)(3).

Project/Activity: Housing Authority of the County of Marin (HACM), Marin County, CA. The HACM requested a waiver of competitive selection of owner proposals and waiting list requirements to permit it to attach PBA to 27 units at the Point Reyes Affordable Housing Project and 8 units at Hamilton Transitional Housing Phase II Project and maintain project-specific waiting lists for each project.

Nature of Requirement: Sections 983.51(a), (b) and (c) and 983.55 (a) and (d), requires competitive selection of owner proposals in accordance with a public housing agency's (PHA) HUD-approved advertisement and unit selection policy. Section 983.203(a)(3) states that a PHA may use the tenant-based waiting list, a merged waiting list, or a separate PBA waiting list for admission to the PBA program. If a PHA opts to have a separate PBA waiting list, it may use a single waiting list for all PBA projects or may use a separate PBA waiting list for an area not smaller than a county or municipality.

Granted By: Michael Liu, Assistant Secretary for Public and Indian Housing.

Date Granted: October 18, 2004.

Reason Waived: Approval to waive competitive selection was granted since both projects underwent a competitive process for CDBG and HOME funds awarded by Marin County. On an annual basis Marin County receives between 75 and 100 requests for these funds, and awards are made to approximately half of the applicants. Approval to waive the waiting list requirements was granted since, although not implemented by regulation, section 8(o)(13)(J) of the United States Housing Act of 1937, as amended, allows, subject to a PHA's waiting list policies and selection preferences, the maintenance of separate waiting lists for PBA structures as long as all families on the PHA's waiting list for PBA can place their names on any of the separate PBA waiting lists.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 983.51, 24 CFR 983.203, and Section II subpart E of the January 16, 2001, Federal Register notice, Revisions to PHA Project-Based Assistance (PBA) Program; Initial Guidance (Initial Guidance).

Project/Activity: St. Louis Housing Authority (SLHA), St. Louis, MO. SLHA requested waivers of 24 CFR 983.51 regarding competitive selection of owner proposals, deconcentration requirements and waiting list requirements so that it could attach PBA to 26 units at Vaughn Elderly Redevelopment.

Nature of Requirement: Section 983.51 of HUD's regulations requires that the PHA adopt a written policy establishing competitive procedures for selection of owner proposals; Section II subpart E of the initial guidance requires that in order to meet the Department's goal of deconcentration and expanding housing and economic opportunities, the projects must be in census tracts with poverty rates of less than 20 percent. Section 983.203(a)(3) of HUD's regulations states that if a PHA opts to have a separate PBA waiting list, it may use a single waiting list for all PBA projects or may use a separate PBA waiting list for an area not smaller than a county or municipality.

Granted By: Michael Liu, Assistant Secretary for Public and Indian Housing.

Date Granted: December 9, 2004.

Reason Waived: Approval to waive competitive selection was granted since the developer's partner, McCormack Baron Salazar, Inc., was competitively selected by SLHA in accordance with 24 CFR 941.602(d)(1). Section 941.602(d)(1) is comparable to the competitive process requirements for PBA.

An exception to the deconcentration requirements was granted since the development is undertaken pursuant to a redevelopment plan, which will deconcentrate poverty in the area, as well as expand housing and economic opportunities. The redevelopment plan is being carried out in the immediate vicinity of the George L. Vaughn Residence at Murphy Park. The Vaughn Elderly Redevelopment, while undertaken separately from the George L. Vaughn Residence at Murphy Park redevelopment effort, is an integral component of such effort. Additionally, the City of St. Louis has determined that the redevelopment of Vaughn Elderly Redevelopment is consistent with the city's Consolidated Plan and the City has agreed to provide tax abatement for the property and has designated Vaughn Elderly Redevelopment as a redevelopment area.

In light of the expansion of housing and economic opportunities and the revitalization efforts taking place, it was determined that the goals involved in this project are consistent with the goal of deconcentrating poverty and expanding housing and economic opportunities.

Approval of the waiver request for § 983.203(a)(3) was granted so that the owner can maintain, and select applicants from, a site-based waiting list. SLHA and the owner have agreed that the owner's site-based waiting list for public housing units shall be deemed SLHA's separate waiting list for PBA units and that the owner will select tenants for PBA from this site-based waiting list.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 983.203, and Section II subpart E of the January 16, 2001, Federal Register notice, Revisions to PHA Project-Based Assistance (PBA) Program; Initial Guidance (Initial Guidance).

Project/Activity: Housing Authority of the City of New Haven (HACNH), New Haven, CT. The HACNH requested an exception to the initial guidance to allow the attachment of PBA to units at the Quinnipiac Terrace project. HACNH also requested a waiver of 24 CFR Section 983.203(a)(3) to allow HACNH to maintain a site-specific waiting list for the project.

Nature of Requirement: Section 983.203(a)(3) of HUD's regulations states that a PHA may use the tenant-based waiting list, a merged waiting list, or a separate PBA waiting list for admission to the PBA program. If a PHA opts to have a separate PBA waiting list, it may use a single waiting list for all PBA projects or may use a separate PBA waiting list for an area not smaller than a county or municipality.

Section II subpart E of the Initial Guidance requires that in order to meet the statutory goal of deconcentration and expanding housing and economic opportunities, the projects must be in census tracts with poverty rates of less than 20 percent.

Granted By: Michael Liu, Assistant Secretary for Public and Indian Housing.

Date Granted: December 28, 2004.

Reason Waived: An exception to the deconcentration requirements was granted since the neighborhood is undergoing significant revitalization. The Revitalization plans for the project included the replacement of 256 public housing units with 114 public housing units—resulting in a significant decrease in assisted housing units—and the addition of 19 market-rate homeownership units. Section 983.203(a)(3) of HUD's regulations was waived since section 8(o)(13)(J) of the United States Housing Act of 1937, as amended, allows, subject to a PHA's waiting list policies and selection preferences, the maintenance of separate waiting lists for PBA structures as long as all families on the PHA's waiting list for PBA can place their names on any of the separate PBA waiting lists.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 985.3.

Project/Activity: Hale County Housing Authority (TX537) Plainview, TX.

Nature of Requirement: Section 985.3 establishes certain reporting compliance dates. Audited financial statements will be required no later than nine months after the PHA's fiscal year end, in accordance with the Single Audit Act and OMB Circular A-133.

Granted By: Michael Liu, Assistant Secretary for Public and Indian Housing.

Date Granted: November 9, 2004.

Reason Waived: The PHA alleges that records had to be reconstructed and verified after the former executive director was relieved of his duties for misconduct. The PHA was granted until December 31, 2004, to submit its audit.

Contact: Judy Wojciechowski, Program Manager, NASS, Real Estate Assessment Center, Office of Public and Indian Housing, Department of Housing and Urban Development, 550 12th Street, SW., Suite 100, Washington, DC 20410, telephone (202) 475-7907.

• Regulation: 24 CFR 985.101(a)

Project/Activity: City of Pensacola Housing Authority (CPHA), Pensacola, FL. CPHA requested a waiver regarding the certification requirement under the Section Eight Management Assessment Program (SEMAP).

Nature of Requirement: Section 985.101 of HUD's regulations requires a PHA to submit the required SEMAP certification form within 60 calendar days after the end of the PHA's fiscal year.

Granted By: Michael Liu, Assistant Secretary for Public and Indian Housing.

Date Granted: December 20, 2004.

Reason Waived: Approval of the waiver was granted due to the PHA having suffered extensive damage to its tenant files, internal computer systems and its office spaces resulting from Hurricane Ivan.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: 24 CFR 990.107(f) and 990.109

Project/Activity: Jackson, OH, Metropolitan Housing Authority. A request was made to permit the Jackson Metropolitan Housing Authority to benefit from energy performance contracting for developments that have resident-paid utilities. The Jackson Metropolitan Housing Authority estimates that it could increase energy savings substantially if it were able to undertake energy performance contracting for its resident-paid utilities.

Nature of Requirement: Under 24 CFR part 990, Operating Fund Formula energy conservation incentive that relates to energy performance contracting currently applies only to PHA-paid utilities. The Jackson Metropolitan Housing Authority has resident-paid utilities.

Granted By: Michael Liu, Assistant Secretary for Public and Indian Housing.

Date Granted: November 12, 2004.

Reason Waived: In September 1996, the Oakland Housing Authority was granted a waiver to permit the Authority to benefit from energy performance contracting for developments with resident-paid utilities. The waiver was granted on the basis that the Authority presented a sound and reasonable methodology for doing so. The Jackson Metropolitan Housing Authority requested a waiver based on the same approved methodology. The waiver permits the Authority to exclude from its Operating Fund calculation of rental income the increased rental income due to the difference between updated baseline utility allowances (before implementation of the energy conservation measures) and revised allowances (after implementation of the measures) for the project(s) involved for the duration of the contract period, which cannot exceed 12 years.

Contact: Peggy Mangum, Public Housing Financial Management Division, Office of Public and Indian Housing, Real Estate Assessment Center. Department of Housing and Urban Development, 550 12th St., SW., Washington, DC 20024, telephone: (202) 475-8778.

• Regulation: 24 CFR 990.107(f) and 990.109

Project/Activity: Housing Authority of the City of New Britain, CT. A request was made to permit the Housing Authority of the City of New Britain to benefit from energy performance contracting for developments that have resident-paid utilities. The Housing Authority of the City of New Britain estimates that it could increase energy savings substantially if it were able to undertake energy performance contracting for its resident-paid utilities.

Nature of Requirement: Under 24 CFR part 990, Operating Fund Formula energy conservation incentive that relates to energy performance contracting currently applies only to PHA-paid utilities. The Housing Authority of the City of New Britain has resident-paid utilities.

Granted By: Michael Liu, Assistant Secretary for Public and Indian Housing.

Date Granted: December 10, 2004.

Reason Waived: In September 1996, the Oakland Housing Authority was granted a waiver to permit the Authority to benefit from energy performance contracting for developments with resident-paid utilities. The waiver was granted on the basis that the Authority presented a sound and reasonable methodology for doing so. The Jackson Metropolitan Housing Authority requested a waiver based on the same approved methodology. The waiver permits the Authority to exclude from its Operating Fund calculation of rental income the increased rental income due to the difference between updated baseline utility allowances (before implementation of the energy conservation measures) and revised allowances (after implementation of the measures) for the project(s) involved for the duration of the contract period, which cannot exceed 12 years.

Contact: Peggy Mangum, Public Housing Financial Management Division, Office of Public and Indian Housing, Real Estate Assessment Center. Department of Housing and Urban Development, 550 12th St., SW., Washington, DC 20024, telephone: (202) 475-8778.

• Regulation: 24 CFR 990.107(f) and 990.109.

Project/Activity: Jefferson, OH, Metropolitan Housing Authority. A request was made to permit the Jefferson Metropolitan Housing Authority to benefit from energy performance contracting for developments that have resident-paid utilities. The Jefferson Metropolitan Housing Authority estimates that it could increase energy savings substantially if it were able to undertake energy performance contracting for its resident-paid utilities.

Nature of Requirement: Under 24 CFR part 990, Operating Fund Formula energy conservation incentive that relates to energy performance contracting currently applies only to PHA-paid utilities. The Jefferson Metropolitan Housing Authority has resident-paid utilities.

Granted By: Michael Liu, Assistant Secretary for Public and Indian Housing.

Date Granted: December 10, 2004.

Reason Waived: In September 1996, the Oakland Housing Authority was granted a waiver to permit the Authority to benefit from energy performance contracting for developments with resident-paid utilities. The waiver was granted on the basis that the Authority presented a sound and reasonable methodology for doing so. The Jackson Metropolitan Housing Authority requested a waiver based on the same approved methodology. The waiver permits the Authority to exclude from its Operating Fund calculation of rental income the increased rental income due to the difference between updated baseline utility allowances (before implementation of the energy conservation measures) and revised allowances (after implementation of the measures) for the project(s) involved for the duration of the contract period, which cannot exceed 12 years.

Contact: Peggy Mangum, Public Housing Financial Management Division, Office of Public and Indian Housing, Real Estate Assessment Center. Department of Housing and Urban Development, 550 12th St., SW., Washington, DC 20024, telephone: (202) 475-8778.

• Regulation. Section II subpart E of the January 16, 2001, Federal Register notice, Revisions to PHA Project-Based Assistance (PBA) Program; Initial Guidance (Initial Guidance).

Project/Activity: Connecticut Department of Social Services (DSS), Hartford, CT. DSS requested an exception to the initial guidance to allow the attachment of PBA to units in the Fair Haven neighborhood where the poverty rate is greater than 20 percent.

Nature of Requirement: Section II subpart E of the Initial Guidance requires that in order to meet the statutory goal of deconcentration and expanding housing and economic opportunities, the projects must be in census tracts with poverty rates of less than 20 percent.

Granted By: Michael Liu, Assistant Secretary for Public and Indian Housing.

Date Granted: December 22, 2004.

Reason Waived: The census tract that encompasses the Fair Haven neighborhood has been designated a HUD Empowerment Zone. The purpose of establishing Empowerment Zones was to open new businesses, and create jobs, housing, and new educational and healthcare opportunities for thousands of Americans. These goals are consistent with the goal of deconcentrating poverty and expanding housing and economic opportunities.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: Section II subpart E of the January 16, 2001, Federal Register notice, Revisions to PHA Project-Based Assistance (PBA) Program; Initial Guidance (Initial Guidance).

Project/Activity: City of Phoenix Housing Authority (CPHA), Phoenix, AZ. The CPHA requested a waiver of deconcentration requirements to permit it to attach PBA to 48 units at Sunrise Vista Apartments, which is located in census tract 1161 that has a poverty rate of 53 percent.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: December 3, 2004.

Reason Waived: An exception to the deconcentration requirements was granted to Sunrise Vista Apartments since it is located in the South Phoenix Village Development Area that is also designated as a Neighborhood Initiative Area (NIA). The mission of a NIA is to improve the physical, social and economic health of a neighborhood by focusing resources in targeted areas. The project is also located in a HUD-designated Enterprise Community. The purpose of establishing enterprise communities is to open new businesses, and create jobs, housing, and new educational and healthcare opportunities for thousands of Americans. The goals of a NIA and enterprise community are consistent with the goal of deconcentrating poverty and expanding housing and economic opportunities.

Contact: Alfred C. Jurison, Director, Housing Voucher Management and Operations Division, Office of Public Housing and Voucher Programs, Office of Public and Indian Housing, Department of Housing and Urban Development, 451 Seventh Street, SW., Room 4210, Washington, DC 20410; telephone 202-708-0477.]

• Regulation: Section II subpart E of the January 16, 2001, Federal Register notice, Revisions to PHA Project-Based Assistance (PBA) Program; Initial Guidance (Initial Guidance).

Project/Activity: Rochester Housing Authority (RHA), Rochester, NY. The RHA requested a waiver of deconcentration requirements to permit it to attach PBA to two units at the Ibero-American Development Corporation Project, which is located in census tract 52 that has a poverty rate of 46.2 percent.

Nature of Requirement: Section II subpart E of the Initial Guidance requires that in order to meet the Department's goal of deconcentration and expanding housing and economic opportunities, the projects must be in census tracts with poverty rates of less than 20 percent.

Granted By: Michael Liu, Assistant Secretary for Public and Indian Housing.

Date Granted: December 3, 2004.

Reason Waived: An exception to the deconcentration requirements was granted since the project is located in the City of Rochester's HUD-designated Renewal Community. The purpose of establishing renewal communities is to open new businesses, and create jobs, housing, and new educational and healthcare opportunities for thousands of Americans. The goals of a renewal community are consistent with the goal of deconcentrating poverty and expanding housing and economic opportunities.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

• Regulation: Section II subpart E of the January 16, 2001, Federal Register notice, Revisions to PHA Project-Based Assistance (PBA) Program; Initial Guidance (Initial Guidance).

Project/Activity: Albany Housing Authority (AHA), Albany, NY. The AHA requested a waiver of deconcentration requirements to permit it to attach PBA to up to 200 units at South Mall Towers, which is located in census tract 11 that has a poverty rate of 37 percent.

Nature of Requirement: Section II subpart E of the Initial Guidance requires that in order to meet the Department's goal of deconcentration and expanding housing and economic opportunities, the projects must be in census tracts with poverty rates of less than 20 percent.

Granted By: Michael Liu, Assistant Secretary for Public and Indian Housing.

Date Granted: October 12, 2004.

Reason Waived: An exception to the deconcentration requirements was granted since the neighborhood is undergoing significant revitalization supported by public and private investment of over $58 million. Some of these revitalization projects include: South Pearl Street Reconstruction that will house future retail and business establishments; a new convention center that will also provide job opportunities; the rehabilitation of nine market-rate townhouses on South Pearl Street; the rehabilitation of the historic Lincoln Park pool and bath house; and rehabilitation of the Cathedral of the Immaculate Conception. The significant investment into the neighborhood of South Mall Towers and their related activities that will create jobs are consistent with the goal of deconcentrating poverty and expanding housing and economic opportunities.

Contact: Alfred C. Jurison, Director, Housing Voucher Management and Operations Division, Office of Public Housing and Voucher Programs, Office of Public and Indian Housing, Department of Housing and Urban Development, 451 Seventh Street, SW., Room 4210, Washington, DC 20410-5000, telephone 202-708-0477.

[FR Doc. E5-1606 Filed 4-7-05; 8:45 am]

BILLING CODE 4210-27-P